DEPARTMENT OF THE INTERIOR

Fish and Wildlife Service

50 CFR Part 17

Endangered and Threatened Wildlife and Plants

CFR Correction

In Title 50 of the Code of Federal Regulations, Part 17, § 17.95(c) to (e), revised as of October 1, 2016, on page 837, in § 17.95(e), the critical habitats for the Razorback Sucker and the Santa Ana Sucker are reinstated to read as follows:

§ 17.95 Critical habitat—fish and wildlife. (Continued)

* * * * *

(e) Fishes.

* * * * *

Razorback Sucker (Xyrauchen texanus)

Description of areas taken from BLM 1:100,000 scale maps (available from BLM State Offices): Rangely, CO 1989; Canyon of Lodore, CO 1990; Seep Ridge, UT/CO 1982; La Sal, UT/CO 1985; Westwater, UT/CO 1981; Hite Crossing, UT 1982; Glenwood Springs, CO 1988; Grand Junction, CO 1990; Delta, CO 1989; Navajo Mountain, UT/AZ 1982; Vernal, UT/CO 1990; Craig, CO 1990; Bluff, UT/CO 1985; Moab, UT/CO 1985; Hanksville, UT 1982; San Rafael Desert, UT 1985; Huntington, UT 1982; Price, UT 1989; Tuba City, AZ 1983; Lake Mead, NV/AZ 1981; Davis Dam, AZ/NV/CA 1982; Parker, AZ/CA 1980; Yuma, AZ/CA 1988; Safford, AZ 1991; Globe, AZ 1980; Clifton, AZ/NM 1975; Prescott, AZ 1982; Theodore Roosevelt Lake, AZ 1982; Grand Canyon, AZ 1980; Mt. Trumbull, AZ 1979; Boulder City, NV/AZ 1978; Blythe, CA/AZ 1976; Trigo Mountains, AZ/CA 1988; Sedona, AZ 1982; Payson, AZ 1988; and U.S. Forest Service map: Tonto National Forest, Phoenix, AZ. The 100-year flood plain for many areas is detailed in Flood Insurance Rate Maps (FIRM) published by and available through the FEMA. In areas where a FIRM is not available, the presence of alluvium soils or known high water marks can be used to determine the extent of the flood plain. Only areas of flood plain containing constituent elements are considered critical habitat.

Colorado: Moffat County. The Yampa River and its 100-year flood plain from the mouth of Cross Mountain Canyon in T.6N., R.98W., sec. 23 (6th Principal Meridian) to the confluence with the Green River in T.7N., R.103W., sec. 28 (6th Principal Meridian).

Utah: Uintah County; and Colorado: Moffat County. The Green River and its 100-year flood plain from the confluence with the Yampa River in T.7N., R.103W., sec. 28 (6th Principal Meridian) to Sand Wash in T.11S., R.18E., sec. 20 (6th Principal Meridian).

Utah: Uintah, Carbon, Grand, Emery, Wayne, and San Juan Counties. The Green River and its 100-year flood plain from Sand Wash at T.11S., R.18E., sec. 20 (6th Principal Meridian) to the confluence with the Colorado River in T.30S., R.19E., sec. 7 (6th Principal Meridian).

Utah: Uintah County. The White River and its 100-year flood plain from the boundary of the Uintah and Ouray Indian Reservation at river mile 18 in T.9S., R.22E., sec. 21 (Salt Lake Meridian) to the confluence with the Green River in T.9S., R.20E., sec. 4 (Salt Lake Meridian).

Utah: Uintah County. The Duchesne River and its 100-year flood plain from river mile 2.5 in T.4S., R.3E., sec. 30 (Salt Lake Meridian) to the confluence with the Green River in T.5S., R.3E., sec. 5 (Uintah Meridian).

Colorado: Delta and Mesa Counties. The Gunnison River and its 100-year flood plain from the confluence with the Uncompahgre River in T.15S., R.96W., sec. 11 (6th Principal Meridian) to Redlands Diversion Dam in T.1S., R.1W., sec. 27 (Ute Meridian).

Colorado: Mesa and Garfield Counties. The Colorado River and its 100-year flood plain from Colorado River Bridge at exit 90 north off Interstate 70 in T.6S., R.93W., sec. 16 (6th Principal Meridian) to Westwater Canyon in T.20S., R.25E., sec. 12 (Salt Lake Meridian) including the Gunnison River and its 100-year flood plain from the Redlands Diversion Dam in T.1S., R.1W., sec. 27 (Ute Meridian) to the confluence with the Colorado River in T.1S., R.1W., sec. 22 (Ute Meridian).

Utah: Grand, San Juan, Wayne, and Garfield Counties. The Colorado River and its 100-year flood plain from Westwater Canyon in T.20S., R.25E., sec. 12 (Salt Lake Meridian) to full pool elevation, upstream of North Wash and including the Dirty Devil arm of Lake Powell in T.33S., R.14E., sec. 29 (Salt Lake Meridian).

New Mexico: San Juan County; and Utah: San Juan County. The San Juan River and its 100-year flood plain from the Hogback Diversion in T.29N., R.16W., sec. 9 (New Mexico Meridian) to the full pool elevation at the mouth of Neskahai Canyon on the San Juan arm of Lake Powell in T.41S., R.11E., sec. 26 (Salt Lake Meridian).

Arizona: Coconino and Mohave Counties; and Nevada: Clark County. The Colorado River and its 100-year flood plain from the confluence with the Paria River in T.40N., R.7E., sec. 24 (Gila and Salt River Meridian) to Hoover Dam in T.30N., R.23W., sec. 3 (Gila and Salt River Meridian) including Lake Mead to the full pool elevation.

Arizona: Mohave County; and Nevada: Clark County. The Colorado River and its 100-year flood plain from Hoover Dam in T.30N., R.23W., sec. 1 (Gila and Salt River Meridian) to Davis Dam in T.21N., R.21W., sec. 18 (Gila and Salt River Meridian) including Lake Mohave to the full pool elevation.

Arizona: La Paz and Yuma Counties; and California: San Bernardino, Riverside, and Imperial Counties. The Colorado River and its 100-year flood plain from Parker Dam in T.11N., R.18W., sec. 16 (Gila and Salt River Meridian) to Imperial Dam in T.6S., R.22W., sec. 25 (Gila and Salt River Meridian) including Imperial Reservoir to the full pool elevation or 100-year flood plain, whichever is greater.

Arizona: Graham, Greenlee, Gila, and Pinal Counties. The Gila River and its 100-year flood plain from the Arizona-New Mexico border in T.8S., R.32E., sec. 34 (Gila and Salt River Meridian) to Coolidge Dam in T.3S., R.18E., sec. 17 (Gila and Salt River Meridian), including San Carlos Reservoir to the full pool elevation.

Arizona: Gila County. The Salt River and its 100-year flood plain from the old U.S. Highway 60/State Route 77 bridge (unsurveyed) to Roosevelt Diversion Dam in T.3N., R.14E., sec. 4 (Gila and Salt River Meridian).

Arizona: Yavapai County. The Verde River and its 100-year flood plain from the U.S. Forest Service boundary (Prescott National Forest) in T.18N., R.2E., sec. 31 to Horseshoe Dam in T.7N., R.6E., sec. 2 (Gila and Salt River Meridian), including Horseshoe Lake to the full pool elevation.

Known constituent elements include water, physical habitat, and biological environment as required for each particular life stage for each species.

Santa Ana Sucker (Catostomus santaanae)

(1) Critical habitat units are depicted for Los Angeles, Orange, Riverside, and San Bernardino Counties, California, on the maps below.

(2) Within these areas, the physical and biological features for the Santa Ana sucker are as follows:

(i) A functioning hydrological system within the historical geographic range of Santa Ana sucker that experiences peaks and ebbs in the water volume (either naturally or regulated) that encompasses areas that provide or contain sources of water and coarse sediment necessary to maintain all life stages of the species, including adults, juveniles, larva, and eggs, in the riverine environment;

(ii) Stream channel substrate consisting of a mosaic of loose sand, gravel, cobble, and boulder substrates in a series of riffles, runs, pools, and shallow sandy stream margins necessary to maintain various life stages of the species, including adults, juveniles, larva, and eggs, in the riverine environment;

(iii) Water depths greater than 1.2 in (3 cm) and bottom water velocities greater than 0.01 ft per second (0.03 m per second);

(iv) Clear or only occasionally turbid water;

(v) Water temperatures less than 86 °F (30 °C);

(vi) In-stream habitat that includes food sources (such as zooplankton, phytoplankton, and aquatic invertebrates), and associated vegetation such as aquatic emergent vegetation and adjacent riparian vegetation to provide: (a) Shading to reduce water temperature when ambient temperatures are high, (b) shelter during periods of high water velocity, and (c) protective cover from predators; and

(vii) Areas within perennial stream courses that may be periodically dewatered, but that serve as connective corridors between occupied or seasonally occupied habitat and through which the species may move when the habitat is wetted.

(3) Critical habitat does not include manmade structures existing on the effective date of this rule and not containing one of more of the physical and biological features, such as buildings, aqueducts, airports, and roads, and the land on which such structures are located.

(4) Critical habitat map units. Data layers defining map units were created using a base of U.S. Geological Survey 7.5′ quadrangle maps. Critical habitat units were then mapped using Universal Transverse Mercator (UTM) zone 11, North American Datum (NAD) 1983 coordinates.

(5) NOTE: Index map of critical habitat units for Santa Ana sucker (Catostomus santaanae) follows:

(6) Unit 1: Santa Ana River, Orange, Riverside, and San Bernardino Counties, California. Subunit 1A: Upper Santa Ana River and Wash, San Bernardino County.

(i) From USGS 1:24,000 quadrangles Forest Falls, Yucaipa, Harrison Mountain, Redlands, and San Bernardino South. Land bounded by the following Universal Transverse Mercator (UTM) Zone 11, North American Datum of 1983 (NAD83) coordinates (E, N): 476057, 3771160; 476057, 3771361; 476067, 3771366; 476363, 3771455; 476483, 3771473; 477305, 3771538; 477407, 3771560; 477571, 3771632; 477860, 3771855; 478333, 3772242; 478402, 3772309; 478500, 3772377; 478520, 3772416; 478590, 3772455; 478940, 3772592; 479868, 3772941; 480001, 3773012; 480336, 3773247; 480371, 3773259; 480393, 3773293; 480485, 3773372; 480526, 3773394; 480690, 3773515; 480864, 3773680; 480972, 3773746; 481132, 3773944; 481165, 3774003; 481261, 3774091; 481297, 3774141; 481350, 3774237; 481644, 3774591; 481673, 3774640; 481719, 3774747; 481827, 3774915; 481925, 3775098; 481967, 3775198; 481974, 3775245; 481997, 3775288; 482030, 3775393; 482069, 3775467; 482110, 3775501; 482122, 3775547; 482158, 3775596; 482181, 3775692; 482245, 3775830; 482286, 3775963; 482425, 3776255; 482435, 3776468; 482450, 3776518; 482433, 3776544; 482427, 3776573; 482424, 3776650; 482387, 3776807; 482397, 3776877; 482389, 3776935; 482399, 3776957; 482369, 3777033; 482395, 3777122; 482438, 3777213; 482450, 3777269; 482505, 3777347; 482516, 3777377; 482528, 3777444; 482530, 3777544; 482504, 3777583; 482502, 3777600; 482517, 3777626; 482546, 3777645; 482578, 3777686; 482578, 3777708; 482518, 3777736; 482490, 3777781; 482491, 3777805; 482505, 3777822; 482561, 3777844; 482582, 3777861; 482586, 3777885; 482578, 3777909; 482538, 3777969; 482534, 3778023; 482594, 3778098; 482606, 3778168; 482628, 3778234; 482681, 3778274; 482688, 3778307; 482715, 3778315; 482727, 3778330; 482710, 3778399; 482601, 3778481; 482601, 3778529; 482629, 3778564; 482638, 3778571; 482697, 3778575; 482721, 3778614; 482711, 3778651; 482660, 3778669; 482612, 3778705; 482600, 3778765; 482629, 3778787; 482635, 3778826; 482622, 3778871; 482639, 3778930; 482645, 3778938; 482677, 3778948; 482720, 3779005; 482731, 3779074; 482772, 3779129; 482801, 3779129; 482844, 3779111; 482863, 3779114; 482883, 3779136; 482942, 3779236; 482945, 3779290; 482936, 3779312; 482966, 3779342; 483015, 3779323; 483085, 3779316; 483130, 3779333; 483166, 3779388; 483157, 3779420; 483113, 3779483; 483107, 3779505; 483114, 3779526; 483144, 3779553; 483032, 3779645; 483011, 3779726; 483012, 3779758; 483024, 3779789; 483046, 3779810; 483128, 3779819; 483202, 3779861; 483223, 3779893; 483168, 3779950; 483167, 3779993; 483119, 3780055; 483102, 3780112; 483155, 3780249; 483187, 3780266; 483246, 3780275; 483266, 3780289; 483251, 3780325; 483227, 3780358; 483201, 3780361; 483213, 3780392; 483236, 3780417; 483332, 3780470; 483323, 3780505; 483338, 3780567; 483325, 3780589; 483299, 3780608; 483305, 3780650; 483255, 3780730; 483252, 3780772; 483256, 3780792; 483291, 3780843; 483302, 3780998; 483313, 3781012; 483341, 3781128; 483359, 3781159; 483395, 3781196; 483396, 3781210; 483380, 3781240; 483348, 3781273; 483293, 3781310; 483272, 3781316; 483258, 3781338; 483237, 3781359; 483202, 3781370; 483187, 3781389; 483201, 3781395; 483259, 3781369; 483279, 3781340; 483299, 3781326; 483320, 3781322; 483389, 3781252; 483416, 3781204; 483406, 3781170; 483361, 3781135; 483346, 3781090; 483347, 3781065; 483311, 3780994; 483321, 3780955; 483310, 3780895; 483314, 3780826; 483287, 3780805; 483260, 3780759; 483311, 3780666; 483316, 3780613; 483352, 3780583; 483365, 3780562; 483363, 3780550; 483340, 3780527; 483341, 3780454; 483304, 3780446; 483226, 3780380; 483281, 3780285; 483248, 3780263; 483171, 3780248; 483156, 3780229; 483157, 3780202; 483145, 3780172; 483114, 3780130; 483116, 3780093; 483128, 3780060; 483176, 3780001; 483177, 3779972; 483193, 3779939; 483224, 3779911; 483231, 3779895; 483226, 3779873; 483193, 3779838; 483124, 3779794; 483093, 3779795; 483053, 3779774; 483030, 3779720; 483032, 3779689; 483042, 3779669; 483158, 3779560; 483142, 3779528; 483153, 3779479; 483151, 3779446; 483175, 3779430; 483183, 3779404; 483155, 3779331; 483112, 3779292; 483079, 3779286; 482981, 3779316; 482959, 3779309; 482953, 3779219; 482909, 3779131; 482876, 3779102; 482834, 3779091; 482799, 3779102; 482777, 3779090; 482746, 3779058; 482728, 3778976; 482698, 3778956; 482674, 3778919; 482647, 3778903; 482653, 3778803; 482631, 3778766; 482629, 3778746; 482634, 3778735; 482709, 3778712; 482730, 3778690; 482749, 3778628; 482739, 3778591; 482718, 3778566; 482662, 3778535; 482646, 3778494; 482677, 3778455; 482746, 3778421; 482766, 3778390; 482771, 3778359; 482747, 3778334; 482746, 3778318; 482703, 3778293; 482695, 3778261; 482647, 3778232; 482630, 3778194; 482629, 3778125; 482598, 3778061; 482597, 3778041; 482618, 3777975; 482617, 3777948; 482601, 3777929; 482608, 3777891; 482624, 3777865; 482623, 3777848; 482574, 3777816; 482562, 3777764; 482570, 3777748; 482614, 3777709; 482617, 3777698; 482598, 3777664; 482553, 3777632; 482539, 3777608; 482544, 3777575; 482536, 3777545; 482542, 3777496; 482537, 3777413; 482502, 3777282; 482421, 3777115; 482419, 3777060; 482433, 3777022; 482430, 3776940; 482454, 3776816; 482510, 3776671; 482512, 3776651; 482495, 3776628; 482502, 3776592; 482496, 3776521; 482508, 3776483; 482485, 3776365; 482487, 3776234; 482407, 3776065; 482381, 3776026; 482369, 3775883; 482376, 3775796; 482361, 3775616; 482349, 3775585; 482302, 3775567; 482301, 3775517; 482264, 3775492; 482188, 3775365; 482138, 3775326; 482118, 3775297; 482079, 3775126; 481893, 3774844; 481846, 3774749; 481819, 3774713; 481769, 3774600; 481710, 3774511; 481675, 3774473; 481666, 3774436; 481569, 3774317; 481580, 3774312; 481582, 3774242; 481561, 3774178; 481552, 3774087; 481569, 3773987; 481516, 3773938; 481262, 3773944; 481022, 3773709; 480977, 3773709; 480901, 3773664; 480896, 3773650; 480844, 3773614; 480767, 3773517; 480728, 3773424; 480689, 3773391; 480603, 3773361; 480578, 3773339; 480489, 3773210; 480400, 3773158; 480339, 3773146; 480320, 3773134; 480257, 3773030; 480175, 3772983; 480092, 3772948; 480026, 3772935; 479969, 3772881; 479946, 3772751; 479927, 3772713; 479962, 3772675; 480038, 3772687; 480096, 3772738; 480277, 3772741; 480470, 3772713; 480581, 3772668; 480654, 3772659; 480845, 3772662; 480915, 3772725; 480991, 3772751; 481086, 3772754; 481178, 3772770; 481277, 3772760; 481413, 3772703; 481479, 3772664; 481532, 3772654; 481552, 3772669; 481594, 3772656; 481732, 3772690; 481909, 3772604; 482065, 3772614; 482213, 3772611; 482273, 3772597; 482437, 3772495; 482484, 3772448; 482500, 3772396; 482537, 3772367; 482609, 3772339; 482659, 3772306; 482678, 3772280; 482742, 3772240; 482849, 3772177; 482991, 3772157; 483035, 3772163; 483075, 3772128; 483094, 3772087; 483137, 3772069; 483211, 3772069; 483445, 3772013; 483489, 3772026; 483550, 3772022; 483645, 3771973; 483690, 3771969; 483746, 3771988; 483788, 3771989; 483849, 3771973; 483908, 3771939; 483940, 3771939; 484021, 3771911; 484116, 3771899; 484183, 3771920; 484273, 3771898; 484348, 3771902; 484488, 3771830; 484605, 3771877; 484664, 3771882; 484829, 3771937; 484892, 3771966; 484983, 3771966; 485142, 3771947; 485332, 3771942; 485482, 3771985; 485526, 3772014; 485619, 3772037; 485679, 3772071; 485745, 3772075; 485829, 3772064; 485980, 3772036; 486023, 3772006; 486110, 3772045; 486154, 3772047; 486196, 3772070; 486243, 3772082; 486293, 3772080; 486342, 3772044; 486397, 3772044; 486517, 3772085; 486545, 3772110; 486565, 3772144; 486650, 3772143; 486688, 3772106; 486762, 3772100; 486823, 3772126; 486881, 3772138; 486912, 3772159; 486960, 3772169; 487044, 3772172; 487095, 3772149; 487140, 3772139; 487293, 3772139; 487351, 3772210; 487489, 3772307; 487623, 3772324; 487815, 3772301; 487876, 3772321; 488012, 3772426; 488315, 3772448; 488368, 3772461; 488508, 3772476; 488549, 3772476; 488672, 3772420; 488789, 3772439; 488929, 3772451; 489002, 3772535; 489020, 3772595; 489053, 3772663; 489092, 3772716; 489215, 3772843; 489277, 3772883; 489321, 3772927; 489400, 3772940; 489468, 3772973; 489499, 3772997; 489547, 3773019; 489670, 3773142; 489756, 3773192; 489894, 3773239; 489958, 3773292; 490060, 3773263; 490077, 3773264; 490181, 3773328; 490291, 3773360; 490319, 3773377; 490319, 3773332; 490267, 3773290; 489940, 3773170; 489898, 3773168; 489764, 3773131; 489725, 3773102; 489652, 3773003; 489593, 3772981; 489512, 3772924; 489411, 3772916; 489365, 3772876; 489332, 3772819; 489301, 3772788; 489239, 3772768; 489099, 3772606; 489088, 3772568; 489037, 3772518; 489006, 3772465; 488989, 3772415; 488940, 3772373; 488934, 3772346; 488976, 3772355; 489017, 3772353; 489044, 3772331; 489075, 3772327; 489090, 3772305; 489083, 3772256; 489125, 3772217; 489165, 3772208; 489184, 3772217; 489217, 3772206; 489296, 3772147; 489301, 3772131; 489329, 3772133; 489395, 3772076; 489488, 3772021; 489505, 3771905; 489494, 3771856; 489551, 3771815; 489586, 3771736; 489628, 3771670; 489681, 3771643; 489751, 3771593; 489791, 3771531; 489857, 3771507; 489912, 3771448; 490006, 3771371; 490059, 3771342; 490105, 3771334; 490160, 3771287; 490199, 3771272; 490232, 3771216; 490224, 3771171; 490259, 3771137; 490450, 3771016; 490482, 3771024; 490527, 3771024; 490567, 3771009; 490672, 3770901; 490751, 3770854; 490825, 3770828; 490850, 3770803; 490950, 3770739; 491063, 3770712; 491091, 3770698; 491152, 3770690; 491161, 3770701; 491185, 3770706; 491218, 3770698; 491296, 3770658; 491324, 3770656; 491413, 3770672; 491480, 3770670; 491501, 3770660; 491593, 3770661; 491643, 3770683; 491784, 3770665; 491814, 3770675; 491861, 3770670; 491912, 3770688; 491941, 3770678; 491987, 3770637; 492029, 3770616; 492116, 3770620; 492147, 3770635; 492215, 3770618; 492290, 3770623; 492356, 3770617; 492411, 3770632; 492447, 3770611; 492490, 3770606; 492515, 3770620; 492570, 3770617; 492598, 3770608; 492603, 3770598; 492695, 3770573; 492810, 3770564; 492867, 3770552; 493173, 3770549; 493210, 3770543; 493280, 3770580; 493383, 3770580; 493413, 3770572; 493469, 3770589; 493544, 3770569; 493624, 3770575; 493647, 3770581; 493703, 3770632; 493728, 3770640; 493754, 3770665; 493839, 3770695; 493902, 3770732; 494003, 3770833; 494028, 3770843; 494044, 3770875; 494064, 3770894; 494085, 3770899; 494117, 3770930; 494143, 3770997; 494208, 3771037; 494214, 3771063; 494239, 3771079; 494270, 3771077; 494286, 3771142; 494324, 3771172; 494342, 3771205; 494363, 3771215; 494440, 3771284; 494458, 3771286; 494478, 3771303; 494518, 3771320; 494561, 3771322; 494653, 3771405; 494706, 3771511; 494717, 3771511; 494781, 3771552; 494945, 3771567; 495026, 3771631; 495073, 3771621; 495102, 3771645; 495222, 3771692; 495224, 3771705; 495302, 3771802; 495391, 3771866; 495408, 3771887; 495447, 3771888; 495531, 3771909; 495581, 3771906; 495607, 3771894; 495666, 3771894; 495688, 3771902; 495727, 3771897; 495836, 3771910; 495954, 3771965; 495987, 3771997; 496021, 3772011; 496083, 3772012; 496133, 3772059; 496135, 3772074; 496179, 3772095; 496296, 3772111; 496325, 3772126; 496359, 3772176; 496400, 3772212; 496477, 3772230; 496542, 3772235; 496567, 3772245; 496600, 3772244; 496677, 3772311; 496722, 3772334; 496793, 3772343; 496816, 3772373; 496827, 3772410; 496855, 3772416; 496919, 3772524; 496930, 3772638; 496981, 3772733; 497031, 3772775; 497090, 3772795; 497204, 3772810; 497265, 3772785; 497285, 3772790; 497343, 3772845; 497405, 3772941; 497489, 3772991; 497542, 3773042; 497551, 3773086; 497582, 3773144; 497652, 3773195; 497701, 3773267; 497721, 3773279; 497766, 3773285; 497811, 3773324; 497958, 3773424; 498086, 3773408; 498107, 3773418; 498148, 3773478; 498213, 3773523; 498361, 3773579; 498402, 3773582; 498440, 3773577; 498578, 3773531; 498594, 3773540; 498635, 3773542; 498670, 3773535; 498708, 3773542; 498731, 3773532; 498763, 3773551; 498788, 3773554; 498821, 3773543; 498854, 3773516; 498882, 3773472; 498915, 3773442; 498951, 3773458; 498978, 3773460; 499089, 3773428; 499147, 3773389; 499178, 3773397; 499232, 3773391; 499286, 3773357; 499313, 3773356; 499377, 3773331; 499500, 3773270; 499550, 3773271; 499575, 3773283; 499610, 3773276; 499615, 3773287; 499670, 3773292; 499764, 3773257; 499824, 3773205; 499936, 3773203; 499980, 3773163; 500154, 3773163; 500313, 3773173; 500442, 3773170; 500470, 3773163; 500495, 3773141; 500566, 3773120; 500645, 3773115; 500771, 3773056; 500840, 3773049; 500916, 3773009; 500954, 3773004; 500999, 3772979; 501046, 3772979; 501096, 3772960; 501139, 3772953; 501336, 3772942; 501369, 3772929; 501421, 3772891; 501455, 3772891; 501533, 3772810; 501583, 3772770; 501629, 3772757; 501676, 3772771; 501779, 3772851; 501822, 3772851; 501898, 3772874; 501974, 3772867; 502026, 3772851; 502072, 3772856; 502101, 3772885; 502148, 3772909; 502192, 3772947; 502227, 3772955; 502310, 3772955; 502378, 3772942; 502414, 3772924; 502575, 3772930; 502690, 3772903; 502844, 3772898; 502909, 3772866; 502961, 3772867; 503003, 3772853; 503079, 3772844; 503172, 3772815; 503207, 3772815; 503288, 3772783; 503313, 3772783; 503405, 3772728; 503486, 3772716; 503606, 3772716; 503801, 3772737; 503887, 3772755; 504014, 3772765; 504077, 3772749; 504192, 3772682; 504236, 3772685; 504283, 3772672; 504385, 3772622; 504440, 3772622; 504494, 3772635; 504562, 3772674; 504606, 3772679; 504653, 3772679; 504750, 3772645; 504791, 3772656; 504845, 3772645; 504927, 3772596; 505018, 3772595; 505046, 3772582; 505086, 3772544; 505112, 3772502; 505145, 3772468; 505223, 3772406; 505304, 3772358; 505323, 3772358; 505477, 3772272; 505485, 3772255; 505472, 3772251; 505416, 3772268; 505338, 3772296; 505317, 3772317; 505263, 3772330; 505182, 3772401; 505122, 3772413; 505028, 3772414; 504908, 3772468; 504869, 3772471; 504820, 3772492; 504708, 3772518; 504635, 3772557; 504543, 3772573; 504249, 3772565; 504161, 3772588; 504122, 3772588; 504085, 3772609; 503832, 3772627; 503662, 3772625; 503605, 3772638; 503238, 3772633; 503154, 3772650; 503094, 3772627; 503042, 3772643; 502949, 3772638; 502923, 3772655; 502884, 3772664; 502787, 3772642; 502674, 3772684; 502651, 3772708; 502584, 3772718; 502506, 3772804; 502419, 3772838; 502370, 3772830; 502282, 3772801; 502216, 3772802; 502166, 3772776; 502128, 3772783; 502097, 3772768; 502067, 3772739; 502003, 3772707; 501945, 3772695; 501724, 3772690; 501671, 3772713; 501643, 3772711; 501627, 3772689; 501593, 3772702; 501494, 3772770; 501405, 3772760; 501314, 3772763; 501263, 3772791; 501218, 3772831; 501179, 3772849; 501137, 3772856; 501075, 3772908; 501033, 3772927; 500996, 3772929; 500960, 3772957; 500838, 3772999; 500807, 3772999; 500769, 3773014; 500723, 3773020; 500704, 3773036; 500627, 3773069; 500545, 3773086; 500449, 3773125; 500338, 3773138; 500152, 3773112; 500107, 3773095; 499993, 3773105; 499938, 3773089; 499888, 3773131; 499696, 3773114; 499666, 3773131; 499656, 3773150; 499636, 3773161; 499593, 3773166; 499548, 3773198; 499496, 3773210; 499440, 3773196; 499313, 3773213; 499240, 3773272; 499181, 3773292; 499130, 3773334; 499079, 3773357; 499056, 3773403; 499036, 3773421; 498968, 3773445; 498931, 3773432; 498902, 3773434; 498831, 3773507; 498769, 3773516; 498683, 3773493; 498635, 3773510; 498529, 3773503; 498437, 3773556; 498398, 3773559; 498386, 3773559; 498362, 3773537; 498334, 3773542; 498256, 3773475; 498227, 3773467; 498208, 3773483; 498181, 3773485; 498138, 3773437; 498139, 3773414; 498118, 3773379; 498054, 3773357; 497992, 3773354; 497922, 3773332; 497893, 3773303; 497832, 3773276; 497768, 3773203; 497708, 3773181; 497660, 3773139; 497638, 3773136; 497626, 3773121; 497609, 3773060; 497507, 3772979; 497481, 3772921; 497459, 3772901; 497421, 3772834; 497374, 3772784; 497353, 3772789; 497310, 3772765; 497266, 3772758; 497215, 3772761; 497173, 3772780; 497148, 3772784; 497053, 3772760; 497024, 3772700; 497035, 3772643; 497026, 3772615; 497003, 3772553; 496967, 3772522; 496963, 3772417; 496843, 3772314; 496788, 3772297; 496779, 3772284; 496768, 3772291; 496723, 3772287; 496683, 3772268; 496628, 3772219; 496551, 3772214; 496528, 3772204; 496494, 3772171; 496467, 3772159; 496398, 3772099; 496354, 3772038; 496305, 3772005; 496260, 3771938; 496223, 3771908; 496189, 3771895; 496089, 3771896; 496023, 3771879; 495987, 3771880; 495963, 3771873; 495890, 3771823; 495840, 3771807; 495703, 3771806; 495680, 3771818; 495610, 3771821; 495504, 3771866; 495479, 3771855; 495433, 3771815; 495382, 3771811; 495346, 3771787; 495328, 3771760; 495246, 3771681; 495210, 3771582; 495183, 3771546; 495140, 3771527; 495103, 3771526; 495080, 3771513; 495023, 3771370; 494998, 3771369; 494957, 3771345; 494881, 3771360; 494855, 3771304; 494833, 3771303; 494806, 3771284; 494767, 3771274; 494719, 3771227; 494643, 3771210; 494616, 3771178; 494587, 3771159; 494552, 3771168; 494474, 3771116; 494454, 3771086; 494451, 3771062; 494436, 3771039; 494418, 3771026; 494413, 3771007; 494317, 3770945; 494274, 3770887; 494243, 3770864; 494193, 3770855; 494164, 3770840; 494101, 3770778; 494024, 3770720; 493927, 3770666; 493825, 3770585; 493680, 3770525; 493651, 3770502; 493603, 3770487; 493572, 3770493; 493529, 3770469; 493504, 3770474; 493329, 3770443; 493283, 3770447; 493196, 3770427; 493177, 3770427; 493147, 3770445; 493081, 3770420; 493018, 3770437; 492984, 3770429; 492698, 3770493; 492507, 3770499; 492479, 3770510; 492389, 3770504; 492200, 3770517; 492185, 3770524; 491966, 3770533; 491879, 3770549; 491821, 3770545; 491809, 3770547; 491805, 3770569; 491739, 3770590; 491700, 3770579; 491582, 3770577; 491547, 3770565; 491404, 3770576; 491373, 3770570; 491325, 3770597; 491283, 3770635; 491171, 3770613; 491061, 3770659; 491008, 3770667; 490970, 3770682; 490950, 3770676; 490926, 3770688; 490896, 3770728; 490846, 3770762; 490766, 3770763; 490731, 3770774; 490612, 3770844; 490550, 3770900; 490417, 3770958; 490238, 3771067; 490194, 3771066; 490129, 3771089; 490101, 3771124; 490045, 3771147; 489996, 3771204; 489972, 3771219; 489929, 3771235; 489905, 3771235; 489898, 3771208; 489784, 3771318; 489771, 3771358; 489672, 3771448; 489580, 3771516; 489503, 3771632; 489501, 3771683; 489470, 3771722; 489415, 3771896; 489419, 3771916; 489404, 3771938; 489340, 3771986; 489200, 3772054; 489173, 3772054; 489123, 3772085; 489096, 3772114; 489046, 3772116; 488998, 3772131; 488931, 3772174; 488883, 3772186; 488806, 3772182; 488755, 3772171; 488719, 3772174; 488671, 3772192; 488610, 3772189; 488575, 3772205; 488536, 3772210; 488457, 3772176; 488255, 3772230; 488117, 3772278; 488035, 3772265; 487952, 3772291; 487896, 3772268; 487867, 3772238; 487814, 3772204; 487662, 3772186; 487623, 3772167; 487586, 3772164; 487567, 3772179; 487532, 3772182; 487427, 3772111; 487295, 3772085; 487057, 3771953; 486960, 3771925; 486843, 3771828; 486774, 3771826; 486708, 3771835; 486626, 3771861; 486543, 3771861; 486489, 3771849; 486449, 3771828; 486354, 3771744; 486253, 3771757; 486202, 3771780; 485784, 3771690; 485600, 3771659; 485511, 3771611; 485351, 3771552; 485097, 3771511; 484846, 3771520; 484805, 3771542; 484585, 3771538; 484485, 3771552; 484407, 3771574; 484388, 3771571; 484288, 3771587; 484169, 3771634; 484083, 3771652; 483973, 3771662; 483896, 3771684; 483757, 3771706; 483644, 3771748; 483550, 3771761; 483314, 3771848; 483258, 3771877; 483250, 3771892; 483212, 3771922; 483177, 3771932; 483134, 3771961; 483096, 3771976; 483047, 3771985; 483026, 3771975; 482994, 3771935; 482872, 3771995; 482844, 3771981; 482801, 3771989; 482726, 3772065; 482667, 3772103; 482531, 3772165; 482463, 3772203; 482413, 3772246; 482336, 3772277; 482301, 3772277; 482192, 3772343; 482139, 3772364; 482052, 3772358; 481975, 3772362; 481930, 3772340; 481872, 3772339; 481824, 3772348; 481788, 3772365; 481773, 3772398; 481744, 3772409; 481678, 3772411; 481639, 3772420; 481572, 3772415; 481496, 3772449; 481474, 3772442; 481293, 3772449; 480762, 3772424; 479991, 3772367; 479292, 3772253; 479131, 3772220; 479081, 3772195; 478711, 3772063; 478444, 3771941; 478245, 3771829; 477954, 3771642; 477927, 3771635; 477910, 3771615; 477711, 3771479; 477614, 3771436; 477537, 3771427; 477349, 3771366; 477304, 3771359; 476657, 3771309; 476456, 3771287; 476289, 3771253; 476105, 3771192; thence returning to 476057, 3771160.

(ii) Map of Subunit 1A (Upper Santa Ana River and Wash) follows:

(7) Unit 1: Santa Ana River, Orange, Riverside, and San Bernardino Counties, California. Subunit 1B: Santa Ana River, Riverside and San Bernardino Counties.

(i) From USGS 1:24,000 quadrangles San Bernardino South, Fontana, Riverside West and Corona North. Land bounded by the following UTM) NAD83 coordinates (E, N): 475287, 3770647; 475229, 3770631; 475159, 3770634; 475029, 3770505; 475080, 3770458; 475001, 3770373; 474886, 3770248; 474792, 3770167; 474561, 3770035; 474404, 3769989; 474266, 3769962; 474155, 3769951; 474074, 3769980; 474045, 3769929; 473999, 3769945; 473688, 3769905; 473458, 3769854; 473253, 3769789; 473090, 3769708; 472936, 3769643; 472759, 3769588; 472637, 3769564; 472418, 3769505; 472326, 3769464; 472166, 3769356; 472083, 3769264; 471951, 3769161; 471855, 3769099; 471802, 3769042; 471434, 3768721; 471194, 3768429; 471073, 3768237; 470973, 3768073; 470781, 3767667; 470656, 3767503; 470554, 3767389; 470432, 3767289; 470296, 3767200; 470161, 3767146; 470029, 3767110; 469902, 3767092; 469859, 3767106; 469823, 3767098; 469385, 3767154; 469306, 3767127; 469260, 3767137; 469083, 3767227; 468675, 3767473; 468582, 3767509; 468391, 3767549; 468237, 3767546; 468067, 3767500; 467929, 3767433; 467866, 3767380; 467752, 3767272; 467669, 3767157; 467639, 3767098; 467567, 3766824; 467519, 3766710; 467464, 3766483; 467292, 3765982; 467233, 3765927; 466613, 3765036; 466482, 3764885; 465806, 3763873; 465375, 3763211; 465110, 3762923; 465002, 3762826; 463832, 3761156; 463710, 3760987; 463618, 3760876; 463572, 3760800; 463517, 3760737; 463465, 3760694; 463354, 3760545; 463282, 3760415; 463207, 3760062; 463139, 3759799; 463064, 3759690; 462928, 3759606; 462834, 3759571; 462722, 3759616; 462542, 3759615; 462360, 3759590; 462110, 3759479; 461950, 3759392; 461683, 3759262; 461624, 3759271; 461556, 3759259; 461475, 3759231; 461374, 3759142; 461261, 3759060; 461216, 3758985; 461173, 3758850; 461145, 3758709; 461146, 3758554; 461138, 3758439; 461093, 3758376; 461081, 3758384; 461054, 3758383; 460880, 3758265; 460852, 3758235; 460700, 3758229; 460666, 3758211; 460567, 3758200; 460518, 3758210; 460476, 3758245; 460456, 3758283; 460451, 3758342; 460398, 3758423; 460279, 3758514; 460101, 3758617; 460067, 3758624; 459988, 3758591; 459958, 3758601; 459894, 3758627; 459833, 3758690; 459808, 3758699; 459782, 3758696; 459669, 3758598; 459588, 3758579; 459551, 3758590; 459497, 3758621; 459471, 3758626; 459363, 3758579; 459299, 3758606; 459239, 3758619; 458984, 3758582; 458895, 3758582; 458803, 3758622; 458746, 3758679; 458673, 3758672; 458591, 3758638; 458232, 3758425; 458192, 3758472; 458019, 3758477; 457568, 3758310; 457103, 3758005; 457024, 3758094; 456958, 3758094; 456803, 3758060; 456600, 3758039; 456457, 3758096; 456348, 3758091; 456312, 3758066; 456199, 3758082; 456132, 3758119; 455955, 3758192; 455847, 3758200; 455775, 3758200; 455710, 3758178; 455671, 3758176; 455539, 3758137; 455393, 3758074; 455170, 3758055; 454941, 3758312; 454636, 3758298; 454175, 3758335; 454138, 3758288; 454085, 3758244; 453986, 3758236; 453611, 3758273; 453546, 3758375; 453470, 3758370; 453446, 3758242; 453306, 3758233; 453216, 3758207; 453037, 3758252; 452940, 3758256; 452821, 3758209; 452658, 3758130; 452436, 3758116; 452322, 3758206; 452198, 3758169; 452090, 3758168; 451989, 3758091; 451913, 3757984; 451861, 3757980; 451804, 3757955; 451762, 3757892; 451676, 3757846; 451578, 3757740; 451485, 3757707; 451475, 3757685; 451431, 3757641; 451359, 3757649; 451117, 3757558; 451068, 3757513; 451056, 3757478; 451030, 3757461; 451004, 3757422; 450984, 3757371; 450941, 3757322; 450899, 3757300; 450870, 3757301; 450835, 3757279; 450736, 3757263; 450719, 3757204; 450687, 3757148; 450638, 3757081; 450578, 3756970; 450533, 3756928; 450479, 3756905; 450390, 3756893; 450362, 3756898; 450312, 3756957; 450262, 3756970; 450154, 3756949; 450009, 3756837; 449983, 3756795; 449898, 3756728; 449784, 3756661; 449686, 3756622; 449655, 3756619; 449613, 3756594; 449521, 3756575; 449453, 3756504; 449244, 3756432; 449071, 3756412; 448931, 3756349; 448844, 3756341; 448704, 3756297; 448634, 3756267; 448532, 3756197; 448342, 3756216; 448221, 3756252; 448181, 3756284; 448113, 3756305; 448018, 3756288; 447965, 3756235; 447882, 3756098; 447791, 3755977; 447696, 3755886; 447620, 3755848; 447438, 3755677; 447334, 3755605; 447241, 3755569; 447133, 3755545; 447057, 3755463; 446826, 3755321; 446517, 3755207; 446471, 3755169; 446382, 3755063; 446306, 3754957; 446274, 3754866; 446263, 3754754; 446282, 3754656; 446278, 3754529; 446242, 3754415; 446189, 3754364; 446113, 3754388; 446047, 3754366; 445702, 3754197; 445616, 3754108; 445584, 3754019; 445605, 3753949; 445592, 3753924; 445495, 3753839; 445421, 3753806; 445340, 3753748; 445215, 3753564; 445122, 3753511; 444917, 3753374; 444854, 3753369; 444784, 3753397; 444714, 3753410; 444627, 3753338; 444422, 3753073; 444132, 3752783; 443977, 3752639; 443831, 3752569; 443884, 3752428; 443804, 3752229; 443588, 3751960; 443586, 3751843; 443321, 3751543; 443048, 3751297; 442771, 3751272; 442612, 3751323; 442559, 3751524; 442557, 3751676; 442627, 3751774; 442766, 3751901; 442944, 3752099; 443080, 3752286; 443171, 3752388; 443254, 3752443; 443315, 3752458; 443342, 3752433; 443435, 3752417; 443491, 3752538; 443494, 3752607; 443617, 3752763; 443840, 3752921; 443942, 3753229; 443999, 3753291; 444171, 3753421; 444308, 3753477; 444348, 3753522; 444448, 3753581; 444485, 3753628; 444557, 3753655; 444638, 3753702; 444674, 3753736; 444751, 3753866; 444635, 3754021; 444578, 3754124; 444563, 3754223; 444606, 3754284; 444704, 3754296; 444770, 3754285; 444798, 3754299; 444887, 3754412; 444926, 3754437; 444997, 3754598; 445074, 3754670; 445138, 3754766; 445173, 3754802; 445240, 3754925; 445296, 3755049; 445418, 3755223; 445422, 3755412; 445454, 3755509; 445568, 3755631; 445647, 3755745; 445823, 3755796; 445931, 3755844; 446038, 3755871; 446103, 3755916; 446215, 3755965; 446227, 3756187; 446315, 3756359; 446434, 3756431; 446792, 3756428; 446781, 3756304; 446855, 3756294; 446940, 3756322; 447152, 3756341; 447190, 3756286; 447397, 3756322; 447470, 3756349; 447499, 3756330; 447573, 3756315; 447627, 3756493; 447683, 3756519; 447769, 3756523; 448315, 3756434; 448392, 3756404; 448507, 3756389; 448533, 3756408; 448632, 3756532; 448626, 3756740; 448878, 3756743; 448923, 3756771; 449014, 3756770; 449088, 3756789; 449137, 3756837; 449137, 3756875; 449120, 3756897; 449230, 3757095; 449314, 3757359; 449327, 3757446; 449386, 3757495; 449409, 3757543; 449462, 3757605; 449570, 3757664; 449678, 3757687; 449775, 3757679; 449863, 3757658; 450158, 3757559; 450241, 3757574; 450420, 3757565; 450434, 3757590; 450531, 3757597; 450662, 3757589; 450706, 3757622; 450812, 3757644; 450857, 3757670; 451058, 3757892; 451071, 3757930; 451069, 3757958; 451027, 3757969; 451055, 3758008; 451090, 3758083; 451125, 3758114; 451167, 3758170; 451237, 3758222; 451258, 3758182; 451322, 3758223; 451437, 3758362; 451502, 3758463; 451558, 3758596; 451623, 3758660; 451644, 3758666; 451658, 3758720; 451674, 3758722; 451694, 3758759; 451781, 3758825; 451826, 3758844; 451862, 3758845; 451912, 3758891; 451926, 3758922; 452020, 3759032; 452031, 3759075; 452121, 3759233; 452108, 3759279; 452205, 3759466; 452245, 3759497; 452372, 3759489; 452470, 3759496; 452561, 3759524; 452739, 3759509; 452837, 3759518; 452999, 3759517; 453098, 3759437; 453168, 3759413; 453313, 3759396; 453518, 3759314; 453520, 3759297; 453700, 3759223; 453713, 3759201; 453710, 3759162; 453823, 3759160; 453838, 3759175; 453872, 3759162; 454000, 3759160; 454079, 3759173; 454112, 3759164; 454189, 3759168; 454344, 3759143; 454459, 3759146; 454478, 3759126; 454478, 3759075; 454497, 3759060; 454662, 3759050; 454681, 3759035; 454676, 3758998; 454740, 3758985; 454803, 3758981; 454874, 3758960; 454900, 3758984; 454969, 3758929; 455040, 3758850; 455085, 3758813; 455179, 3758797; 455230, 3758776; 455311, 3758776; 455348, 3758791; 455422, 3758773; 455542, 3758724; 455640, 3758653; 455684, 3758630; 455894, 3758573; 455933, 3758536; 455953, 3758542; 456017, 3758491; 456056, 3758506; 456151, 3758514; 456247, 3758572; 456405, 3758489; 456442, 3758488; 456516, 3758467; 456586, 3758422; 456615, 3758426; 456684, 3758405; 456722, 3758415; 456839, 3758398; 456865, 3758403; 456939, 3758385; 457104, 3758438; 457223, 3758448; 457304, 3758435; 457702, 3758492; 457770, 3758529; 457905, 3758566; 457974, 3758605; 458022, 3758651; 458044, 3758649; 458066, 3758660; 458148, 3758770; 458194, 3758778; 458288, 3758770; 458325, 3758778; 458425, 3758810; 458475, 3758848; 458511, 3758847; 458573, 3758828; 458606, 3758838; 458643, 3758837; 458807, 3758812; 458879, 3758814; 458951, 3758835; 459084, 3758920; 459200, 3758945; 459240, 3758985; 459310, 3759007; 459349, 3759001; 459379, 3758982; 459397, 3758954; 459425, 3758954; 459467, 3758973; 459481, 3758959; 459475, 3758942; 459480, 3758917; 459577, 3758863; 459673, 3758850; 459711, 3758856; 459814, 3758900; 459909, 3758923; 459966, 3758965; 460058, 3758999; 460082, 3758993; 460103, 3758999; 460127, 3759030; 460135, 3759063; 460091, 3759130; 460071, 3759243; 460080, 3759299; 460118, 3759338; 460170, 3759370; 460238, 3759384; 460478, 3759331; 460520, 3759373; 460542, 3759425; 460534, 3759471; 460579, 3759566; 460619, 3759622; 460645, 3759613; 460663, 3759535; 460651, 3759462; 460613, 3759421; 460556, 3759332; 460549, 3759281; 460627, 3759285; 460791, 3759250; 460819, 3759269; 460853, 3759391; 460911, 3759364; 460930, 3759362; 460954, 3759376; 461010, 3759427; 461032, 3759431; 461160, 3759524; 461327, 3759664; 461377, 3759636; 461527, 3759702; 461557, 3759684; 461617, 3759720; 461673, 3759738; 461732, 3759747; 461855, 3759730; 461889, 3759733; 461948, 3759746; 462053, 3759798; 462485, 3760035; 462552, 3760058; 462779, 3760280; 463156, 3760759; 463598, 3761341; 464430, 3762512; 464799, 3763080; 464826, 3763114; 464859, 3763130; 464918, 3763222; 465105, 3763517; 465125, 3763584; 465188, 3763643; 465209, 3763734; 465234, 3763796; 465283, 3763859; 465311, 3763917; 465412, 3763986; 465446, 3764062; 465484, 3764115; 465517, 3764142; 465574, 3764228; 465627, 3764279; 465649, 3764287; 465752, 3764392; 466428, 3765270; 466937, 3765975; 467052, 3766181; 467363, 3767127; 467077, 3767537; 467104, 3767561; 467377, 3767168; 467433, 3767285; 467572, 3767479; 467690, 3767592; 467798, 3767670; 467910, 3767731; 468021, 3767772; 468142, 3767804; 468351, 3767834; 468471, 3767824; 468638, 3767789; 468822, 3767713; 469024, 3767573; 469035, 3767425; 468990, 3767383; 469175, 3767288; 469224, 3767276; 469306, 3767275; 469358, 3767299; 469404, 3767305; 469510, 3767297; 469749, 3767338; 469811, 3767359; 469930, 3767356; 470051, 3767387; 470196, 3767456; 470310, 3767524; 470417, 3767621; 470518, 3767745; 470658, 3768013; 470778, 3768272; 470916, 3768459; 471212, 3768803; 471529, 3769081; 471623, 3769057; 471821, 3769227; 472051, 3769453; 472194, 3769572; 472239, 3769631; 472361, 3769681; 472563, 3769721; 472751, 3769748; 472929, 3769832; 473093, 3769923; 473440, 3770175; 473501, 3770110; 473436, 3770056; 473542, 3770075; 473967, 3770118; 474147, 3770116; 474275, 3770091; 474407, 3770148; 474552, 3770242; 474704, 3770351; 474836, 3770485; 474879, 3770530; 474893, 3770560; 475055, 3770728; 475149, 3770814; 475296, 3770915; 475356, 3770980; 475540, 3771112; 475687, 3771196; 475841, 3771271; 476057, 3771361; 476057, 3771160; 475989, 3771114; 475708, 3770974; 475635, 3770951; 475583, 3770925; 475605, 3770914; 475322, 3770688; thence returning to 475287, 3770647.

(ii) Map of Subunit 1B: (Santa Ana River) follows:

(8) Unit 1: Santa Ana River, Orange, Riverside, and San Bernardino Counties, California. Subunit 1C: Lower Santa Ana River, Orange and Riverside Counties.

(i) From USGS 1:24,000 quadrangles Prado, Black Star Canyon and Orange. Land bounded by the following UTM) NAD83 coordinates (E, N): 439123, 3749777; 439223, 3749735; 439317, 3749737; 439475, 3749686; 439567, 3749560; 439645, 3749469; 439774, 3749500; 439943, 3749500; 440112, 3749446; 440161, 3749312; 439660, 3749201; 439520, 3749378; 439460, 3749399; 439399, 3749439; 439319, 3749542; 439301, 3749594; 439265, 3749606; 438894, 3749562; 438796, 3749584; 438742, 3749566; 438596, 3749491; 438516, 3749437; 438459, 3749364; 438448, 3749294; 438464, 3749237; 438366, 3748852; 438340, 3748760; 438283, 3748727; 438185, 3748276; 438122, 3748139; 438057, 3748079; 437949, 3748001; 437654, 3747892; 437464, 3747866; 437373, 3747865; 437292, 3747874; 437143, 3747915; 436895, 3748028; 436812, 3748073; 436669, 3748199; 436625, 3748312; 436585, 3748391; 436572, 3748468; 436552, 3748505; 436412, 3748579; 436342, 3748576; 436215, 3748550; 436049, 3748462; 435917, 3748476; 435808, 3748471; 435704, 3748457; 435613, 3748433; 435486, 3748378; 434802, 3748017; 434587, 3748012; 434512, 3748021; 434282, 3747955; 434121, 3747940; 434051, 3748000; 433979, 3747999; 433872, 3747880; 433731, 3747851; 433421, 3747832; 433139, 3747793; 433063, 3747795; 432963, 3747813; 432893, 3747763; 432803, 3747785; 432229, 3748058; 432204, 3748085; 432188, 3748119; 432177, 3748181; 432152, 3748235; 432154, 3748312; 432121, 3748473; 432121, 3748544; 432109, 3748577; 432073, 3748614; 431926, 3748722; 431859, 3748810; 431778, 3748866; 431712, 3748889; 431641, 3748901; 431491, 3748890; 431431, 3748872; 431353, 3748830; 431068, 3748646; 430666, 3748361; 430432, 3748227; 430080, 3748058; 429848, 3747970; 429591, 3747848; 429403, 3747735; 427822, 3746840; 427649, 3746756; 427447, 3746689; 426581, 3746504; 426126, 3746415; 425941, 3746399; 425853, 3746399; 425852, 3746506; 426009, 3746515; 426141, 3746535; 426882, 3746670; 427227, 3746745; 427560, 3746829; 427676, 3746876; 427804, 3746941; 429341, 3747823; 429709, 3748019; 430328, 3748290; 430502, 3748391; 430618, 3748476; 430744, 3748552; 430779, 3748589; 430805, 3748697; 430811, 3748761; 430803, 3748798; 430965, 3748887; 431072, 3748985; 431224, 3748977; 431238, 3748986; 431242, 3749070; 431317, 3749218; 431364, 3749269; 431432, 3749309; 431499, 3749332; 431587, 3749338; 431684, 3749320; 431776, 3749271; 431969, 3749136; 432292, 3748817; 432333, 3748763; 432550, 3748356; 432609, 3748267; 432685, 3748186; 432851, 3748105; 432954, 3748084; 433122, 3748085; 433261, 3748126; 433392, 3748186; 433613, 3748269; 433765, 3748320; 433894, 3748351; 433999, 3748358; 434076, 3748343; 434133, 3748371; 434288, 3748376; 434351, 3748281; 434404, 3748286; 434530, 3748262; 434587, 3748282; 434673, 3748289; 434864, 3748352; 434926, 3748398; 435009, 3748431; 435174, 3748416; 435499, 3748568; 435539, 3748608; 435628, 3748636; 435712, 3748625; 435815, 3748647; 435867, 3748648; 435893, 3748665; 435890, 3748729; 435980, 3748742; 436024, 3748773; 436433, 3748700; 436638, 3748607; 436667, 3748461; 436746, 3748352; 436783, 3748279; 436785, 3748204; 436804, 3748152; 436893, 3748104; 437012, 3748021; 437085, 3747983; 437383, 3747900; 437493, 3747898; 437586, 3747904; 437681, 3747928; 437884, 3748054; 438053, 3748138; 438099, 3748182; 438134, 3748265; 438212, 3748574; 438227, 3748689; 438252, 3748775; 438235, 3748844; 438250, 3748959; 438290, 3749147; 438351, 3749356; 438405, 3749440; 438637, 3749625; 438734, 3749688; 438816, 3749730; 438873, 3749735; 438903, 3749767; 438985, 3749795; thence returning to 439123, 3749777.

(i) Map of Subunit 1C (Lower Santa Ana River) follows:

(9) Unit 2: San Gabriel River, Los Angeles County, California.

(i) From USGS 1:24,000 quadrangles Mount Baldy, Mount San Antonia, Crystal Lake, Waterman Mountain, Azusa and Glendora. Land bounded by the following UTM NAD83 coordinates (E, N): 412207, 3789649; 412240, 3789651; 412263, 3789642; 412291, 3789622; 412319, 3789588; 412362, 3789390; 412369, 3789285; 412385, 3789277; 412401, 3789280; 412418, 3789291; 412456, 3789343; 412507, 3789432; 412570, 3789514; 412622, 3789548; 412647, 3789547; 412666, 3789539; 412678, 3789496; 412694, 3789488; 412703, 3789493; 412747, 3789568; 412758, 3789617; 412751, 3789642; 412770, 3789656; 412790, 3789696; 412843, 3789762; 412866, 3789779; 412934, 3789799; 412952, 3789788; 412954, 3789775; 412945, 3789723; 412951, 3789658; 413055, 3789562; 413156, 3789439; 413169, 3789408; 413230, 3789343; 413269, 3789328; 413330, 3789348; 413367, 3789370; 413398, 3789365; 413418, 3789326; 413387, 3789291; 413389, 3789230; 413398, 3789203; 413415, 3789189; 413520, 3789234; 413571, 3789248; 413614, 3789245; 413634, 3789236; 413754, 3789237; 413924, 3789215; 413963, 3789231; 413980, 3789249; 413998, 3789296; 413995, 3789357; 414044, 3789392; 414092, 3789400; 414188, 3789383; 414255, 3789386; 414333, 3789359; 414360, 3789355; 414391, 3789361; 414444, 3789400; 414473, 3789449; 414486, 3789499; 414471, 3789593; 414481, 3789615; 414507, 3789619; 414524, 3789612; 414550, 3789620; 414605, 3789596; 414719, 3789580; 414739, 3789589; 414779, 3789633; 414817, 3789655; 414900, 3789683; 414953, 3789693; 414995, 3789691; 415037, 3789685; 415066, 3789665; 415089, 3789635; 415107, 3789587; 415120, 3789449; 415133, 3789414; 415159, 3789405; 415189, 3789413; 415284, 3789464; 415323, 3789472; 415370, 3789452; 415384, 3789422; 415448, 3789386; 415562, 3789290; 415637, 3789258; 415676, 3789256; 415717, 3789267; 415742, 3789292; 415758, 3789317; 415766, 3789367; 415808, 3789412; 415838, 3789430; 415883, 3789441; 415929, 3789438; 416010, 3789414; 416081, 3789421; 416111, 3789439; 416182, 3789523; 416245, 3789650; 416275, 3789668; 416403, 3789670; 416466, 3789705; 416480, 3789725; 416482, 3789857; 416497, 3789880; 416565, 3789892; 416634, 3789867; 416805, 3789827; 416846, 3789801; 416886, 3789795; 417009, 3789821; 417030, 3789845; 417034, 3789864; 417036, 3789973; 417025, 3790011; 417081, 3790064; 417106, 3790079; 417114, 3790095; 417150, 3790127; 417148, 3790147; 417168, 3790180; 417176, 3790202; 417173, 3790227; 417181, 3790234; 417203, 3790188; 417180, 3790147; 417182, 3790129; 417174, 3790105; 417150, 3790064; 417058, 3790000; 417071, 3789987; 417059, 3789899; 417077, 3789873; 417079, 3789829; 417115, 3789801; 417208, 3789772; 417299, 3789726; 417375, 3789658; 417394, 3789630; 417422, 3789560; 417428, 3789488; 417420, 3789287; 417430, 3789265; 417481, 3789207; 417516, 3789184; 417606, 3789192; 417737, 3789152; 417806, 3789209; 417832, 3789271; 417880, 3789293; 417944, 3789274; 418087, 3789178; 418330, 3789112; 418543, 3789101; 418557, 3789121; 418562, 3789151; 418521, 3789207; 418442, 3789258; 418306, 3789300; 418282, 3789320; 418278, 3789365; 418344, 3789470; 418360, 3789511; 418358, 3789541; 418345, 3789578; 418255, 3789704; 418237, 3789752; 418252, 3789822; 418286, 3789840; 418423, 3789874; 418447, 3789898; 418464, 3789925; 418460, 3789957; 418426, 3790024; 418430, 3790062; 418461, 3790103; 418501, 3790121; 418623, 3790101; 418602, 3790199; 418610, 3790286; 418625, 3790332; 418621, 3790404; 418591, 3790473; 418608, 3790508; 418642, 3790541; 418758, 3790583; 418763, 3790696; 418743, 3790732; 418683, 3790787; 418674, 3790810; 418688, 3790849; 418711, 3790992; 418630, 3791137; 418556, 3791189; 418527, 3791221; 418511, 3791292; 418488, 3791304; 418436, 3791277; 418392, 3791216; 418336, 3791222; 418268, 3791252; 418222, 3791285; 418173, 3791376; 418166, 3791413; 418142, 3791456; 418132, 3791497; 418146, 3791542; 418138, 3791585; 418119, 3791615; 418076, 3791634; 418033, 3791670; 417937, 3791698; 417860, 3791750; 417818, 3791755; 417781, 3791772; 417755, 3791797; 417747, 3791826; 417753, 3791848; 417829, 3791896; 417830, 3791918; 417787, 3791970; 417739, 3792001; 417698, 3792018; 417653, 3792023; 417608, 3792045; 417566, 3792083; 417555, 3792129; 417558, 3792167; 417586, 3792219; 417654, 3792283; 417707, 3792297; 417807, 3792267; 417881, 3792278; 417907, 3792297; 417930, 3792386; 417989, 3792426; 417999, 3792459; 417994, 3792499; 417974, 3792530; 417964, 3792570; 417917, 3792615; 417881, 3792671; 417868, 3792681; 417799, 3792653; 417788, 3792666; 417832, 3792701; 417856, 3792705; 417890, 3792697; 417961, 3792624; 417998, 3792613; 418080, 3792745; 418103, 3792752; 418102, 3792731; 418044, 3792616; 418051, 3792586; 418077, 3792555; 418070, 3792454; 418039, 3792404; 417969, 3792355; 417963, 3792313; 417950, 3792279; 417913, 3792247; 417860, 3792233; 417797, 3792229; 417771, 3792251; 417715, 3792260; 417697, 3792254; 417678, 3792229; 417658, 3792224; 417610, 3792170; 417618, 3792127; 417679, 3792066; 417756, 3792035; 417809, 3792003; 417850, 3791965; 417864, 3791920; 417861, 3791882; 417823, 3791836; 417832, 3791817; 417927, 3791741; 417968, 3791717; 418019, 3791712; 418128, 3791675; 418157, 3791645; 418196, 3791543; 418209, 3791435; 418226, 3791391; 418261, 3791355; 418302, 3791325; 418341, 3791311; 418414, 3791346; 418449, 3791354; 418527, 3791322; 418545, 3791279; 418576, 3791246; 418606, 3791240; 418720, 3791129; 418749, 3791089; 418758, 3791037; 418758, 3790905; 418795, 3790733; 418843, 3790650; 418849, 3790613; 418841, 3790574; 418820, 3790547; 418779, 3790520; 418696, 3790504; 418681, 3790484; 418760, 3790376; 418760, 3790352; 418751, 3790338; 418721, 3790336; 418681, 3790346; 418666, 3790332; 418659, 3790308; 418658, 3790273; 418757, 3790057; 418745, 3790033; 418718, 3790024; 418679, 3790024; 418560, 3790057; 418525, 3790050; 418507, 3790034; 418547, 3789923; 418527, 3789875; 418424, 3789810; 418385, 3789802; 418357, 3789786; 418335, 3789756; 418328, 3789709; 418404, 3789566; 418409, 3789518; 418389, 3789460; 418336, 3789358; 418352, 3789336; 418387, 3789306; 418460, 3789287; 418529, 3789251; 418599, 3789202; 418785, 3789206; 418836, 3789224; 418858, 3789266; 418872, 3789341; 418889, 3789371; 418923, 3789389; 419098, 3789384; 419165, 3789389; 419193, 3789409; 419246, 3789473; 419313, 3789501; 419402, 3789478; 419460, 3789476; 419612, 3789447; 419698, 3789441; 419741, 3789428; 419832, 3789334; 419876, 3789313; 419913, 3789313; 419903, 3789408; 419915, 3789476; 419964, 3789615; 419984, 3789648; 420024, 3789689; 420198, 3789822; 420319, 3790052; 420363, 3790081; 420458, 3790067; 420489, 3790128; 420538, 3790166; 420600, 3790208; 420650, 3790229; 420688, 3790267; 420787, 3790316; 420833, 3790408; 420894, 3790494; 420967, 3790571; 420980, 3790727; 421021, 3790900; 421053, 3790992; 421136, 3791056; 421230, 3791113; 421275, 3791156; 421330, 3791235; 421407, 3791304; 421456, 3791342; 421583, 3791415; 421835, 3791456; 422070, 3791428; 422217, 3791429; 422289, 3791641; 422275, 3791683; 422279, 3791771; 422266, 3791855; 422077, 3792392; 422043, 3792547; 422068, 3792606; 422057, 3792641; 422076, 3792719; 422064, 3792757; 422069, 3792797; 422098, 3792814; 422107, 3792998; 422117, 3793017; 422146, 3793040; 422178, 3793045; 422204, 3793031; 422220, 3793013; 422225, 3792910; 422218, 3792868; 422236, 3792808; 422241, 3792749; 422242, 3792696; 422184, 3792571; 422191, 3792508; 422162, 3792399; 422176, 3792356; 422226, 3792290; 422244, 3792250; 422245, 3792206; 422259, 3792173; 422344, 3792083; 422359, 3792054; 422363, 3792014; 422353, 3791901; 422413, 3791745; 422408, 3791694; 422415, 3791638; 422443, 3791651; 422477, 3791681; 422509, 3791741; 422547, 3791767; 422691, 3791807; 422702, 3791850; 422726, 3791876; 422752, 3791902; 422821, 3791938; 422859, 3791979; 422987, 3792041; 423080, 3792040; 423103, 3792053; 423116, 3792094; 423184, 3792130; 423237, 3792145; 423349, 3792138; 423393, 3792123; 423447, 3792042; 423482, 3792008; 423515, 3791992; 423704, 3791985; 423721, 3792013; 423727, 3792051; 423714, 3792081; 423718, 3792134; 423742, 3792152; 423778, 3792152; 423866, 3792128; 423897, 3792131; 423935, 3792180; 423969, 3792244; 423999, 3792256; 424060, 3792255; 424142, 3792305; 424177, 3792298; 424232, 3792256; 424223, 3792230; 424191, 3792232; 424158, 3792252; 424131, 3792247; 424069, 3792211; 423999, 3792207; 423975, 3792192; 423932, 3792125; 423924, 3792098; 423894, 3792083; 423857, 3792087; 423817, 3792107; 423785, 3792107; 423775, 3792097; 423801, 3792058; 423804, 3792010; 423774, 3791967; 423744, 3791942; 423697, 3791935; 423602, 3791945; 423570, 3791934; 423479, 3791933; 423435, 3791946; 423400, 3791977; 423367, 3792035; 423322, 3792065; 423181, 3792070; 423124, 3792007; 423091, 3791944; 423057, 3791916; 423013, 3791937; 422969, 3791947; 422934, 3791933; 422838, 3791883; 422730, 3791763; 422688, 3791732; 422547, 3791684; 422510, 3791640; 422457, 3791507; 422397, 3791437; 422322, 3791419; 422238, 3791338; 422122, 3791306; 422063, 3791304; 422027, 3791313; 422009, 3791346; 421984, 3791363; 421947, 3791344; 421909, 3791299; 421751, 3791247; 421647, 3791230; 421568, 3791198; 421473, 3791147; 421386, 3791064; 421285, 3790999; 421202, 3790968; 421148, 3790903; 421128, 3790845; 421084, 3790762; 421114, 3790695; 421134, 3790587; 421127, 3790546; 421101, 3790526; 421063, 3790467; 421042, 3790385; 421002, 3790341; 420919, 3790286; 420864, 3790235; 420807, 3790204; 420726, 3790197; 420674, 3790183; 420613, 3790078; 420539, 3790039; 420388, 3790008; 420349, 3789990; 420331, 3789956; 420332, 3789891; 420315, 3789863; 420290, 3789847; 420276, 3789825; 420251, 3789739; 420227, 3789713; 420193, 3789710; 420068, 3789662; 420006, 3789618; 419991, 3789588; 420000, 3789519; 419945, 3789398; 419955, 3789352; 419985, 3789321; 420035, 3789323; 420151, 3789303; 420209, 3789312; 420248, 3789340; 420282, 3789378; 420341, 3789498; 420400, 3789551; 420472, 3789580; 420532, 3789563; 420584, 3789499; 420591, 3789426; 420583, 3789370; 420592, 3789224; 420629, 3789168; 420674, 3789123; 420718, 3789117; 420765, 3789119; 420815, 3789139; 420975, 3789222; 421019, 3789216; 421049, 3789224; 421075, 3789251; 421151, 3789290; 421234, 3789348; 421337, 3789386; 421536, 3789352; 421578, 3789334; 421623, 3789298; 421651, 3789213; 421723, 3789149; 421832, 3788918; 421867, 3788866; 421895, 3788858; 422195, 3788697; 422234, 3788645; 422282, 3788508; 422307, 3788465; 422340, 3788464; 422391, 3788493; 422392, 3788515; 422436, 3788571; 422553, 3788602; 422595, 3788692; 422611, 3788678; 422660, 3788678; 422687, 3788715; 422770, 3788760; 422854, 3788834; 422963, 3788881; 423090, 3788898; 423175, 3788875; 423211, 3788858; 423230, 3788839; 423427, 3788793; 423452, 3788807; 423494, 3788784; 423527, 3788786; 423596, 3788805; 423617, 3788818; 423792, 3788860; 423944, 3788862; 424060, 3788939; 424168, 3789076; 424227, 3789101; 424258, 3789099; 424325, 3789064; 424413, 3788986; 424467, 3788855; 424486, 3788840; 424507, 3788835; 424517, 3788783; 424608, 3788722; 424703, 3788699; 424815, 3788695; 425139, 3788730; 425294, 3788759; 425323, 3788773; 425346, 3788766; 425374, 3788736; 425450, 3788693; 425556, 3788681; 425643, 3788685; 425686, 3788656; 425782, 3788538; 425850, 3788537; 425882, 3788516; 425909, 3788485; 425982, 3788436; 426048, 3788414; 426068, 3788394; 426206, 3788364; 426319, 3788277; 426394, 3788191; 426461, 3788164; 426534, 3788159; 426584, 3788182; 426626, 3788178; 426648, 3788191; 426681, 3788232; 426707, 3788246; 426699, 3788309; 426703, 3788336; 426728, 3788356; 426769, 3788369; 426823, 3788374; 426894, 3788317; 426933, 3788261; 426984, 3788210; 427015, 3788206; 427080, 3788221; 427142, 3788271; 427246, 3788317; 427290, 3788328; 427318, 3788312; 427352, 3788309; 427392, 3788290; 427424, 3788208; 427428, 3788146; 427492, 3788073; 427552, 3788024; 427675, 3788008; 427749, 3788018; 427850, 3787987; 427962, 3787977; 428043, 3787993; 428111, 3787996; 428180, 3787978; 428217, 3787943; 428245, 3787937; 428268, 3787943; 428317, 3787976; 428507, 3788018; 428567, 3788044; 428602, 3788050; 428680, 3788046; 428711, 3788036; 428733, 3788016; 428769, 3788001; 428842, 3787977; 428913, 3787927; 428945, 3787916; 429050, 3787853; 429124, 3787859; 429141, 3787875; 429154, 3787924; 429154, 3787968; 429137, 3788014; 429131, 3788062; 429137, 3788115; 429161, 3788237; 429192, 3788295; 429194, 3788352; 429211, 3788369; 429235, 3788441; 429254, 3788466; 429279, 3788484; 429360, 3788487; 429364, 3788500; 429338, 3788545; 429308, 3788569; 429279, 3788625; 429278, 3788664; 429243, 3788753; 429251, 3788783; 429278, 3788805; 429354, 3788831; 429396, 3788830; 429460, 3788807; 429531, 3788824; 429534, 3788842; 429495, 3788906; 429484, 3788971; 429434, 3789023; 429426, 3789091; 429448, 3789123; 429491, 3789146; 429530, 3789157; 429573, 3789159; 429617, 3789151; 429657, 3789141; 429688, 3789120; 429719, 3789110; 429773, 3789118; 429793, 3789133; 429817, 3789176; 429810, 3789259; 429801, 3789280; 429822, 3789330; 429825, 3789371; 429867, 3789431; 429892, 3789446; 429912, 3789470; 429943, 3789527; 429982, 3789679; 429947, 3789792; 429940, 3789889; 429980, 3789926; 429986, 3789948; 429977, 3789977; 429990, 3790060; 430002, 3790080; 430060, 3790119; 430085, 3790147; 430085, 3790224; 430040, 3790368; 430035, 3790417; 430044, 3790437; 430099, 3790486; 430113, 3790558; 430106, 3790580; 430083, 3790601; 430013, 3790639; 430001, 3790708; 430030, 3790739; 430157, 3790832; 430195, 3790844; 430214, 3790841; 430246, 3790819; 430269, 3790821; 430324, 3790850; 430333, 3790868; 430320, 3790914; 430325, 3791033; 430368, 3791056; 430409, 3791055; 430488, 3791008; 430601, 3790989; 430672, 3791003; 430784, 3791083; 430821, 3791097; 430847, 3791095; 430864, 3791081; 430887, 3791026; 430878, 3791004; 430880, 3790982; 430917, 3790977; 430950, 3790992; 430982, 3791026; 431013, 3791040; 431061, 3791020; 431136, 3791031; 431182, 3791077; 431202, 3791138; 431225, 3791161; 431234, 3791189; 431221, 3791241; 431135, 3791244; 431122, 3791278; 431059, 3791320; 431049, 3791343; 431056, 3791367; 431124, 3791450; 431178, 3791492; 431244, 3791522; 431253, 3791547; 431254, 3791573; 431242, 3791596; 431208, 3791628; 431183, 3791669; 431173, 3791704; 431178, 3791901; 431186, 3791923; 431166, 3791948; 431159, 3791976; 431159, 3792018; 431234, 3792101; 431231, 3792147; 431208, 3792174; 431114, 3792204; 431079, 3792250; 431068, 3792294; 431094, 3792324; 431140, 3792342; 431141, 3792364; 431161, 3792397; 431219, 3792443; 431224, 3792484; 431205, 3792536; 431098, 3792668; 431020, 3792747; 430974, 3792783; 430858, 3792821; 430693, 3792937; 430668, 3792996; 430659, 3793111; 430629, 3793215; 430572, 3793348; 430606, 3793428; 430652, 3793454; 430691, 3793452; 430725, 3793440; 430753, 3793445; 430765, 3793467; 430766, 3793487; 430728, 3793550; 430690, 3793573; 430669, 3793600; 430662, 3793642; 430705, 3793664; 430745, 3793649; 430766, 3793653; 430865, 3793718; 431001, 3793773; 431011, 3793784; 431039, 3793789; 431084, 3793782; 431152, 3793830; 431162, 3793818; 431185, 3793837; 431208, 3793843; 431261, 3793830; 431230, 3793804; 431205, 3793815; 431177, 3793802; 431142, 3793812; 431096, 3793769; 431075, 3793767; 431058, 3793750; 431040, 3793756; 431012, 3793750; 430928, 3793705; 430871, 3793655; 430851, 3793649; 430815, 3793612; 430740, 3793615; 430714, 3793606; 430780, 3793551; 430806, 3793489; 430803, 3793452; 430787, 3793424; 430758, 3793407; 430664, 3793418; 430639, 3793415; 430620, 3793359; 430653, 3793306; 430653, 3793265; 430664, 3793244; 430775, 3793154; 430813, 3793091; 430839, 3793026; 431182, 3792705; 431303, 3792547; 431315, 3792506; 431311, 3792463; 431296, 3792409; 431271, 3792360; 431228, 3792329; 431162, 3792315; 431145, 3792298; 431141, 3792276; 431144, 3792253; 431201, 3792238; 431277, 3792207; 431309, 3792174; 431306, 3792143; 431281, 3792068; 431217, 3791949; 431230, 3791894; 431215, 3791832; 431253, 3791678; 431307, 3791582; 431315, 3791553; 431309, 3791519; 431284, 3791509; 431238, 3791466; 431181, 3791442; 431128, 3791394; 431130, 3791368; 431147, 3791344; 431169, 3791329; 431265, 3791300; 431287, 3791282; 431308, 3791219; 431302, 3791191; 431200, 3791022; 431144, 3790985; 431111, 3790982; 431057, 3790991; 431012, 3790984; 430890, 3790932; 430867, 3790937; 430850, 3790953; 430820, 3791014; 430802, 3791024; 430777, 3791024; 430734, 3790985; 430721, 3790961; 430590, 3790915; 430507, 3790908; 430451, 3790938; 430418, 3790975; 430385, 3790975; 430374, 3790953; 430385, 3790900; 430374, 3790826; 430270, 3790792; 430207, 3790795; 430182, 3790788; 430073, 3790707; 430065, 3790689; 430071, 3790665; 430100, 3790639; 430150, 3790564; 430156, 3790536; 430156, 3790508; 430122, 3790452; 430120, 3790432; 430139, 3790358; 430104, 3790273; 430110, 3790223; 430097, 3790085; 430079, 3790063; 430034, 3790045; 430025, 3790030; 430027, 3789916; 430004, 3789904; 429986, 3789867; 429983, 3789774; 430007, 3789698; 430011, 3789647; 429974, 3789480; 429954, 3789442; 429902, 3789418; 429882, 3789371; 429872, 3789293; 429888, 3789218; 429848, 3789043; 429828, 3789014; 429737, 3789003; 429679, 3789011; 429597, 3789060; 429571, 3789059; 429565, 3789008; 429597, 3788931; 429615, 3788862; 429609, 3788792; 429588, 3788756; 429548, 3788738; 429486, 3788739; 429425, 3788753; 429400, 3788747; 429390, 3788730; 429386, 3788615; 429427, 3788559; 429434, 3788535; 429426, 3788476; 429404, 3788454; 429367, 3788447; 429332, 3788420; 429257, 3788319; 429244, 3788284; 429167, 3788015; 429196, 3787915; 429197, 3787865; 429241, 3787810; 429254, 3787818; 429273, 3787862; 429267, 3787885; 429278, 3787895; 429338, 3787897; 429391, 3787825; 429415, 3787749; 429438, 3787736; 429504, 3787752; 429545, 3787750; 429559, 3787694; 429597, 3787662; 429613, 3787678; 429644, 3787782; 429728, 3787916; 429725, 3787959; 429734, 3788005; 429755, 3788028; 429787, 3788035; 429826, 3788008; 429869, 3787953; 429885, 3787945; 429923, 3787955; 429966, 3787932; 429973, 3787912; 430046, 3787873; 430090, 3787883; 430152, 3787932; 430187, 3787987; 430218, 3787990; 430263, 3787969; 430315, 3787932; 430390, 3787853; 430433, 3787846; 430451, 3787850; 430474, 3787879; 430497, 3787894; 430504, 3787912; 430561, 3787935; 430564, 3787958; 430625, 3787963; 430699, 3787948; 430890, 3787996; 430894, 3788024; 430985, 3788045; 431012, 3788084; 431048, 3788104; 431071, 3788147; 431068, 3788215; 431088, 3788256; 431125, 3788286; 431153, 3788333; 431186, 3788361; 431204, 3788409; 431278, 3788466; 431314, 3788478; 431357, 3788583; 431371, 3788682; 431381, 3788708; 431414, 3788722; 431468, 3788718; 431502, 3788706; 431511, 3788686; 431538, 3788675; 431566, 3788701; 431668, 3788675; 431689, 3788678; 431721, 3788706; 431750, 3788764; 431833, 3788787; 431956, 3788847; 431980, 3788843; 432026, 3788895; 432068, 3788921; 432093, 3788921; 432124, 3788889; 432123, 3788846; 432142, 3788793; 432151, 3788737; 432221, 3788706; 432267, 3788696; 432306, 3788603; 432339, 3788585; 432353, 3788551; 432404, 3788575; 432461, 3788580; 432478, 3788563; 432496, 3788520; 432567, 3788457; 432621, 3788427; 432651, 3788423; 432676, 3788452; 432691, 3788458; 432729, 3788435; 432756, 3788430; 432806, 3788441; 432844, 3788430; 432889, 3788437; 432917, 3788426; 432963, 3788399; 432961, 3788378; 433039, 3788294; 433127, 3788269; 433241, 3788259; 433280, 3788266; 433293, 3788225; 433290, 3788183; 433301, 3788146; 433351, 3788052; 433372, 3788047; 433393, 3788019; 433416, 3788027; 433582, 3788029; 433648, 3788067; 433750, 3788057; 433768, 3788046; 433794, 3788025; 433797, 3788002; 433766, 3787965; 433688, 3787961; 433635, 3787941; 433579, 3787954; 433494, 3787940; 433435, 3787952; 433416, 3787950; 433414, 3787944; 433430, 3787931; 433505, 3787925; 433529, 3787914; 433552, 3787881; 433575, 3787867; 433579, 3787841; 433588, 3787837; 433670, 3787864; 433735, 3787848; 433752, 3787837; 433760, 3787816; 433757, 3787762; 433768, 3787756; 433833, 3787765; 433858, 3787744; 433931, 3787719; 433967, 3787738; 433985, 3787734; 434103, 3787691; 434120, 3787671; 434100, 3787644; 434069, 3787658; 434035, 3787660; 433975, 3787695; 433953, 3787697; 433930, 3787671; 433904, 3787657; 433878, 3787657; 433863, 3787678; 433862, 3787700; 433848, 3787712; 433823, 3787724; 433736, 3787739; 433720, 3787761; 433720, 3787782; 433700, 3787835; 433600, 3787812; 433576, 3787813; 433564, 3787822; 433534, 3787874; 433495, 3787891; 433376, 3787907; 433358, 3787922; 433343, 3787924; 433285, 3787988; 433269, 3788024; 433249, 3788084; 433257, 3788156; 433218, 3788183; 433195, 3788215; 433141, 3788216; 433107, 3788208; 433084, 3788222; 433049, 3788223; 433005, 3788249; 433004, 3788275; 432933, 3788311; 432925, 3788358; 432889, 3788371; 432841, 3788384; 432772, 3788369; 432721, 3788372; 432687, 3788351; 432579, 3788341; 432500, 3788387; 432485, 3788412; 432339, 3788462; 432314, 3788518; 432276, 3788549; 432252, 3788599; 432222, 3788627; 432187, 3788641; 432132, 3788702; 432103, 3788705; 432087, 3788718; 432095, 3788756; 432078, 3788809; 432034, 3788814; 432013, 3788802; 431986, 3788799; 431931, 3788770; 431861, 3788758; 431805, 3788731; 431771, 3788678; 431736, 3788640; 431707, 3788621; 431637, 3788615; 431611, 3788626; 431478, 3788642; 431462, 3788632; 431430, 3788595; 431414, 3788525; 431378, 3788451; 431339, 3788436; 431237, 3788358; 431211, 3788297; 431191, 3788284; 431177, 3788258; 431166, 3788197; 431126, 3788134; 431121, 3788096; 431094, 3788033; 431043, 3788003; 431012, 3787968; 430938, 3787951; 430903, 3787950; 430880, 3787919; 430853, 3787905; 430614, 3787885; 430593, 3787874; 430558, 3787835; 430491, 3787808; 430429, 3787766; 430401, 3787761; 430383, 3787762; 430367, 3787778; 430356, 3787801; 430229, 3787927; 430207, 3787931; 430190, 3787923; 430115, 3787824; 430086, 3787799; 430065, 3787796; 430006, 3787823; 429970, 3787857; 429859, 3787865; 429834, 3787878; 429810, 3787899; 429801, 3787962; 429780, 3787966; 429766, 3787946; 429765, 3787890; 429715, 3787816; 429669, 3787726; 429669, 3787679; 429647, 3787623; 429619, 3787612; 429588, 3787618; 429545, 3787641; 429527, 3787691; 429439, 3787700; 429390, 3787697; 429376, 3787704; 429342, 3787856; 429328, 3787862; 429282, 3787789; 429251, 3787774; 429235, 3787778; 429225, 3787794; 429196, 3787811; 429169, 3787821; 429134, 3787797; 429105, 3787791; 429028, 3787792; 428994, 3787801; 428912, 3787840; 428736, 3787948; 428650, 3787971; 428543, 3787969; 428416, 3787916; 428383, 3787912; 428370, 3787919; 428270, 3787893; 428228, 3787890; 428180, 3787902; 428161, 3787921; 428136, 3787928; 427995, 3787935; 427902, 3787929; 427848, 3787944; 427759, 3787953; 427637, 3787944; 427547, 3787956; 427455, 3787997; 427398, 3788051; 427312, 3788209; 427285, 3788242; 427252, 3788261; 427190, 3788255; 427159, 3788239; 427107, 3788192; 427075, 3788146; 427049, 3788130; 427026, 3788133; 426892, 3788253; 426846, 3788272; 426754, 3788274; 426742, 3788267; 426759, 3788219; 426761, 3788183; 426668, 3788115; 426579, 3788065; 426513, 3788046; 426419, 3788037; 426378, 3788045; 426346, 3788067; 426359, 3788097; 426361, 3788122; 426276, 3788196; 426208, 3788244; 426188, 3788274; 426149, 3788300; 426044, 3788347; 425943, 3788330; 425927, 3788337; 425916, 3788374; 425893, 3788385; 425818, 3788388; 425800, 3788400; 425775, 3788470; 425675, 3788583; 425609, 3788618; 425527, 3788634; 425462, 3788632; 425441, 3788621; 425393, 3788627; 425376, 3788621; 425323, 3788636; 425037, 3788628; 424985, 3788618; 424674, 3788622; 424542, 3788611; 424501, 3788626; 424470, 3788656; 424430, 3788727; 424420, 3788757; 424414, 3788859; 424346, 3788874; 424309, 3788917; 424283, 3788928; 424237, 3788915; 424141, 3788843; 424101, 3788778; 424047, 3788758; 424024, 3788731; 423936, 3788694; 423889, 3788675; 423855, 3788683; 423792, 3788666; 423715, 3788679; 423657, 3788656; 423591, 3788642; 423558, 3788644; 423482, 3788709; 423429, 3788709; 423398, 3788718; 423355, 3788715; 423257, 3788737; 423148, 3788747; 423114, 3788737; 423006, 3788734; 422956, 3788724; 422842, 3788621; 422777, 3788543; 422716, 3788407; 422645, 3788343; 422625, 3788333; 422607, 3788342; 422572, 3788396; 422510, 3788396; 422480, 3788384; 422459, 3788359; 422447, 3788200; 422187, 3788206; 422143, 3788256; 422114, 3788323; 422106, 3788362; 422108, 3788442; 422099, 3788475; 422059, 3788544; 422053, 3788569; 421993, 3788592; 421956, 3788592; 421872, 3788625; 421825, 3788599; 421793, 3788599; 421769, 3788606; 421738, 3788630; 421703, 3788707; 421683, 3788796; 421669, 3788919; 421647, 3788967; 421644, 3789008; 421630, 3789058; 421590, 3789110; 421533, 3789139; 421308, 3789146; 421173, 3789130; 421128, 3789105; 420942, 3788933; 420906, 3788908; 420873, 3788890; 420814, 3788867; 420779, 3788863; 420749, 3788846; 420710, 3788855; 420684, 3788884; 420645, 3788946; 420615, 3788973; 420536, 3789089; 420510, 3789186; 420509, 3789320; 420494, 3789396; 420491, 3789473; 420474, 3789500; 420425, 3789474; 420374, 3789429; 420337, 3789365; 420340, 3789316; 420326, 3789294; 420294, 3789272; 420250, 3789257; 420138, 3789248; 420003, 3789258; 419923, 3789252; 419853, 3789285; 419786, 3789332; 419741, 3789386; 419704, 3789404; 419461, 3789430; 419407, 3789428; 419360, 3789420; 419219, 3789375; 419186, 3789339; 419161, 3789326; 419055, 3789329; 419015, 3789324; 418968, 3789308; 418915, 3789249; 418891, 3789195; 418855, 3789177; 418816, 3789163; 418650, 3789149; 418607, 3789133; 418599, 3789113; 418612, 3789048; 418563, 3789031; 418216, 3789060; 418148, 3789075; 418089, 3789070; 418021, 3789109; 417980, 3789117; 417943, 3789184; 417920, 3789201; 417915, 3789230; 417894, 3789239; 417855, 3789215; 417803, 3789148; 417777, 3789132; 417712, 3789126; 417631, 3789143; 417501, 3789143; 417453, 3789165; 417423, 3789196; 417406, 3789234; 417386, 3789326; 417378, 3789492; 417331, 3789612; 417300, 3789649; 417221, 3789708; 417152, 3789734; 417071, 3789778; 417019, 3789779; 416919, 3789755; 416813, 3789767; 416725, 3789807; 416620, 3789820; 416554, 3789849; 416533, 3789842; 416520, 3789817; 416518, 3789747; 416494, 3789674; 416462, 3789651; 416414, 3789633; 416359, 3789627; 416300, 3789645; 416267, 3789610; 416222, 3789513; 416188, 3789466; 416143, 3789425; 416088, 3789394; 415979, 3789367; 415888, 3789377; 415850, 3789374; 415810, 3789336; 415766, 3789254; 415735, 3789233; 415699, 3789223; 415581, 3789239; 415534, 3789258; 415456, 3789306; 415416, 3789343; 415297, 3789405; 415175, 3789354; 415131, 3789355; 415100, 3789369; 415080, 3789394; 415076, 3789426; 415077, 3789558; 415042, 3789638; 414987, 3789656; 414948, 3789655; 414839, 3789613; 414739, 3789544; 414651, 3789552; 414538, 3789584; 414513, 3789540; 414526, 3789498; 414502, 3789413; 414453, 3789342; 414382, 3789305; 414289, 3789316; 414097, 3789361; 414057, 3789361; 414038, 3789352; 414018, 3789283; 414023, 3789250; 414014, 3789228; 414000, 3789206; 413943, 3789184; 413908, 3789183; 413861, 3789199; 413799, 3789207; 413726, 3789208; 413645, 3789196; 413622, 3789209; 413584, 3789209; 413456, 3789168; 413389, 3789164; 413366, 3789174; 413345, 3789219; 413358, 3789284; 413358, 3789321; 413333, 3789320; 413273, 3789299; 413245, 3789301; 413182, 3789331; 412981, 3789587; 412908, 3789636; 412902, 3789694; 412890, 3789719; 412852, 3789707; 412778, 3789579; 412761, 3789526; 412697, 3789461; 412673, 3789458; 412628, 3789483; 412600, 3789481; 412566, 3789461; 412447, 3789267; 412375, 3789200; 412351, 3789198; 412321, 3789211; 412310, 3789230; 412335, 3789305; 412330, 3789412; 412311, 3789461; 412288, 3789572; 412272, 3789602; 412253, 3789619; 412218, 3789627; 412187, 3789624; 412119, 3789583; 412048, 3789578; 411991, 3789534; 411949, 3789489; 411905, 3789477; 411888, 3789489; 411847, 3789550; 411801, 3789647; 411779, 3789671; 411746, 3789682; 411687, 3789658; 411647, 3789615; 411600, 3789623; 411575, 3789637; 411555, 3789657; 411528, 3789714; 411504, 3789734; 411471, 3789729; 411437, 3789712; 411415, 3789688; 411341, 3789653; 411292, 3789655; 411278, 3789678; 411340, 3789690; 411371, 3789710; 411387, 3789732; 411429, 3789757; 411482, 3789778; 411516, 3789776; 411571, 3789725; 411592, 3789680; 411627, 3789643; 411691, 3789702; 411736, 3789722; 411800, 3789703; 411822, 3789676; 411872, 3789565; 411893, 3789542; 411911, 3789534; 411966, 3789591; 412057, 3789614; 412103, 3789601; 412178, 3789643; thence returning to 412207, 3789649.

(ii) Map of Unit 2 (San Gabriel River) follows:

(10) Unit 3: Big Tujunga Wash, Los Angeles County, California. Subunit 3A: Big Tujunga Wash.

(i) From USGS 1:24,000 quadrangles Condor Peak and Sunland. Land bounded by the following UTM NAD83 coordinates (E, N): 382996, 3796285; 383017, 3796285; 383034, 3796298; 383087, 3796289; 383191, 3796254; 383559, 3796102; 383600, 3796082; 383635, 3796047; 383703, 3796082; 383734, 3796136; 383755, 3796384; 383781, 3796466; 383777, 3796540; 383809, 3796564; 383903, 3796576; 383967, 3796569; 384008, 3796534; 384109, 3796490; 384156, 3796427; 384231, 3796397; 384262, 3796405; 384403, 3796388; 384489, 3796352; 384606, 3796287; 384699, 3796218; 384868, 3796044; 385054, 3795886; 385104, 3795866; 385315, 3795816; 385436, 3795802; 385491, 3795772; 385531, 3795766; 385564, 3795742; 385609, 3795652; 385779, 3795429; 385841, 3795414; 385904, 3795420; 385979, 3795413; 386111, 3795381; 386172, 3795359; 386263, 3795368; 386319, 3795353; 386360, 3795315; 386382, 3795260; 386389, 3795213; 386382, 3795154; 386441, 3795088; 386507, 3794969; 386553, 3794916; 386608, 3794869; 386734, 3794787; 386813, 3794666; 386896, 3794603; 387031, 3794525; 387151, 3794475; 387441, 3794384; 387499, 3794354; 387541, 3794313; 387568, 3794232; 387573, 3794124; 387601, 3793982; 387598, 3793942; 387614, 3793799; 387625, 3793771; 387657, 3793760; 387696, 3793761; 387716, 3793773; 387795, 3793910; 387847, 3793922; 387871, 3793908; 387896, 3793847; 387907, 3793782; 387908, 3793722; 387932, 3793650; 387975, 3793582; 388012, 3793541; 388073, 3793494; 388129, 3793499; 388174, 3793520; 388209, 3793564; 388258, 3793688; 388288, 3793714; 388338, 3793715; 388402, 3793659; 388428, 3793606; 388494, 3793569; 388522, 3793565; 388552, 3793584; 388546, 3793683; 388570, 3793714; 388659, 3793761; 388705, 3793802; 388824, 3793836; 388903, 3793849; 388957, 3793845; 388990, 3793817; 388999, 3793761; 389024, 3793700; 389049, 3793677; 389078, 3793689; 389122, 3793742; 389177, 3793773; 389224, 3793766; 389264, 3793779; 389294, 3793815; 389321, 3793868; 389355, 3793960; 389386, 3793991; 389446, 3794026; 389640, 3794114; 389736, 3794178; 389803, 3794233; 389827, 3794283; 389848, 3794307; 389875, 3794381; 389949, 3794476; 390060, 3794507; 390077, 3794537; 390082, 3794569; 390076, 3794598; 390026, 3794669; 390018, 3794703; 390021, 3794737; 390035, 3794765; 390048, 3794828; 390076, 3794865; 390142, 3794993; 390227, 3795058; 390363, 3795093; 390396, 3795130; 390441, 3795220; 390488, 3795280; 390536, 3795324; 390570, 3795346; 390672, 3795372; 390677, 3795351; 390586, 3795295; 390558, 3795246; 390534, 3795236; 390472, 3795165; 390426, 3795069; 390367, 3795058; 390333, 3795027; 390254, 3794986; 390130, 3794868; 390121, 3794835; 390129, 3794701; 390120, 3794550; 390103, 3794507; 390078, 3794478; 389996, 3794431; 389971, 3794407; 389798, 3794149; 389748, 3794041; 389697, 3793977; 389643, 3793945; 389596, 3793936; 389502, 3793964; 389463, 3793961; 389416, 3793938; 389386, 3793905; 389368, 3793802; 389353, 3793768; 389323, 3793725; 389280, 3793685; 389244, 3793676; 389201, 3793692; 389154, 3793673; 389074, 3793625; 389019, 3793607; 388987, 3793626; 388959, 3793666; 388947, 3793775; 388908, 3793795; 388761, 3793751; 388652, 3793682; 388622, 3793644; 388620, 3793556; 388601, 3793515; 388531, 3793476; 388475, 3793461; 388415, 3793464; 388388, 3793477; 388389, 3793552; 388363, 3793584; 388314, 3793598; 388275, 3793571; 388238, 3793469; 388196, 3793418; 388067, 3793324; 388019, 3793339; 387938, 3793427; 387907, 3793494; 387866, 3793735; 387838, 3793763; 387790, 3793762; 387751, 3793744; 387712, 3793710; 387671, 3793704; 387622, 3793716; 387587, 3793757; 387570, 3793834; 387534, 3794154; 387484, 3794246; 387443, 3794295; 387345, 3794365; 387290, 3794383; 387262, 3794372; 387228, 3794371; 387191, 3794382; 387110, 3794443; 386897, 3794551; 386834, 3794593; 386742, 3794688; 386692, 3794732; 386658, 3794752; 386552, 3794748; 386508, 3794753; 386478, 3794832; 386431, 3794900; 386383, 3794936; 386339, 3794998; 386311, 3795019; 386279, 3795063; 386292, 3795143; 386289, 3795174; 386275, 3795211; 386244, 3795253; 386198, 3795269; 386166, 3795265; 386146, 3795243; 386091, 3795247; 386029, 3795291; 386002, 3795300; 385985, 3795282; 385948, 3795276; 385906, 3795275; 385831, 3795291; 385797, 3795322; 385753, 3795391; 385575, 3795554; 385526, 3795612; 385396, 3795723; 385349, 3795734; 385256, 3795732; 385215, 3795740; 385180, 3795733; 385150, 3795747; 385087, 3795741; 385044, 3795770; 384915, 3795908; 384769, 3796039; 384629, 3796186; 384490, 3796279; 384398, 3796291; 384356, 3796285; 384305, 3796265; 384220, 3796275; 384168, 3796266; 384105, 3796298; 384017, 3796368; 384001, 3796356; 384028, 3796247; 383996, 3796242; 383924, 3796252; 383861, 3796248; 383838, 3796239; 383837, 3796096; 383827, 3796042; 383803, 3795983; 383772, 3795945; 383736, 3795919; 383705, 3795913; 383680, 3795916; 383659, 3795935; 383600, 3796011; 383426, 3796105; 383134, 3796195; 382984, 3796221; 382943, 3796215; 382867, 3796183; 382835, 3796188; 382750, 3796166; 382683, 3796176; 382573, 3796151; 382462, 3796111; 382412, 3796075; 382309, 3796029; 382284, 3796008; 382251, 3795948; 382168, 3795893; 382157, 3795851; 382012, 3795759; 381976, 3795721; 381864, 3795561; 381781, 3795457; 381694, 3795366; 381646, 3795321; 381414, 3795183; 381314, 3795074; 381274, 3795052; 381246, 3795026; 381208, 3794947; 381199, 3794884; 381163, 3794792; 381147, 3794701; 381104, 3794558; 381093, 3794481; 381028, 3794321; 380899, 3794189; 380820, 3794148; 380727, 3794074; 380694, 3794031; 380616, 3793882; 380566, 3793817; 380491, 3793790; 380385, 3793681; 380291, 3793621; 380220, 3793590; 380148, 3793594; 379998, 3793658; 379848, 3793662; 379523, 3793612; 379498, 3793576; 379365, 3793493; 379342, 3793504; 379315, 3793502; 379257, 3793435; 379127, 3793335; 379115, 3793308; 379070, 3793263; 378986, 3793210; 378737, 3793111; 378595, 3793103; 378443, 3793108; 378425, 3793076; 378425, 3793055; 378448, 3793039; 378467, 3793011; 378432, 3792965; 378442, 3792914; 378426, 3792886; 378425, 3792854; 378373, 3792777; 378312, 3792740; 378250, 3792727; 378216, 3792699; 378149, 3792682; 378007, 3792602; 377942, 3792579; 377887, 3792509; 377833, 3792463; 377814, 3792429; 377774, 3792416; 377723, 3792415; 377545, 3792323; 377354, 3792337; 377313, 3792354; 377160, 3792462; 377109, 3792439; 377015, 3792423; 376885, 3792437; 376807, 3792416; 376594, 3792435; 376586, 3792371; 376449, 3792390; 376374, 3792362; 376354, 3792275; 376297, 3792277; 376128, 3792311; 375855, 3792421; 375647, 3792452; 375156, 3792505; 374378, 3792525; 374315, 3792514; 374205, 3792467; 374135, 3792495; 374025, 3792494; 373930, 3792468; 373816, 3792464; 373507, 3792544; 373439, 3792535; 373326, 3792502; 373329, 3792593; 373347, 3792594; 373353, 3792617; 373351, 3792652; 373332, 3792703; 373404, 3792794; 373453, 3792813; 373513, 3792804; 373568, 3792781; 373631, 3792811; 373762, 3792815; 373911, 3792836; 374164, 3792841; 374420, 3792866; 374485, 3792898; 374912, 3792882; 375040, 3792869; 375194, 3792819; 375242, 3792831; 375323, 3792906; 375509, 3792982; 375821, 3793046; 376047, 3793011; 376730, 3793170; 376797, 3793179; 377225, 3793291; 377444, 3793267; 377491, 3793283; 377541, 3793286; 377667, 3793268; 378031, 3793300; 378221, 3793252; 378372, 3793250; 378472, 3793211; 378696, 3793234; 378920, 3793329; 378991, 3793432; 379008, 3793477; 379046, 3793516; 379225, 3793628; 379249, 3793666; 379286, 3793690; 379517, 3793761; 379539, 3793788; 379608, 3793833; 379653, 3793836; 379721, 3793828; 379805, 3793839; 379974, 3793881; 380092, 3793947; 380347, 3794052; 380449, 3794148; 380504, 3794223; 380539, 3794236; 380564, 3794278; 380632, 3794323; 380705, 3794349; 380774, 3794390; 380841, 3794416; 380868, 3794457; 380888, 3794510; 380896, 3794615; 380913, 3794685; 381008, 3794772; 381074, 3794791; 381097, 3794828; 381152, 3794971; 381170, 3795051; 381197, 3795094; 381245, 3795134; 381300, 3795166; 381376, 3795241; 381565, 3795367; 381622, 3795388; 381660, 3795433; 381757, 3795521; 381829, 3795624; 381841, 3795654; 381848, 3795724; 381864, 3795781; 381906, 3795862; 382000, 3795964; 382160, 3796097; 382278, 3796158; 382480, 3796237; 382540, 3796250; 382728, 3796246; 382828, 3796272; 382959, 3796289; thence returning to 382996, 3796285.

(ii) Map of Subunit 3A (Big Tujunga Wash) appears in paragraph (11)(ii) of this entry.

(11) Subunit 3B: Gold Canyon, Delta Canyon, and Stone Canyon Creeks.

(i) From USGS 1:24,000 quadrangles Condor Peak and Sunland. Land bounded by the following UTM NAD83 coordinates (E, N): 382996, 3796285; 382995, 3796335; 382966, 3796453; 382967, 3796492; 382991, 3796511; 383044, 3796521; 383084, 3796551; 383116, 3796586; 383138, 3796625; 383140, 3796654; 383109, 3796684; 383094, 3796751; 383114, 3796789; 383122, 3796836; 383123, 3796888; 383109, 3796916; 383110, 3796937; 383155, 3796938; 383164, 3796946; 383173, 3796960; 383161, 3796988; 383110, 3797042; 383024, 3797055; 383011, 3797064; 382964, 3797148; 382915, 3797171; 382770, 3797275; 382747, 3797308; 382685, 3797339; 382658, 3797361; 382614, 3797360; 382492, 3797417; 382469, 3797417; 382417, 3797457; 382380, 3797460; 382348, 3797475; 382251, 3797482; 382207, 3797503; 382152, 3797518; 382114, 3797575; 382068, 3797622; 382036, 3797677; 381991, 3797700; 381967, 3797700; 381932, 3797717; 381900, 3797746; 381888, 3797785; 381895, 3797804; 381890, 3797817; 381855, 3797820; 381836, 3797841; 381822, 3797843; 381789, 3797814; 381744, 3797806; 381721, 3797811; 381649, 3797865; 381599, 3797914; 381494, 3797919; 381429, 3797938; 381414, 3797991; 381436, 3797991; 381438, 3797961; 381486, 3797933; 381521, 3797952; 381586, 3797941; 381754, 3797831; 381789, 3797833; 381815, 3797859; 381832, 3797863; 381873, 3797828; 381910, 3797833; 381922, 3797777; 381947, 3797753; 382057, 3797706; 382089, 3797666; 382094, 3797637; 382120, 3797603; 382166, 3797583; 382186, 3797554; 382256, 3797515; 382308, 3797504; 382389, 3797501; 382419, 3797491; 382532, 3797440; 382548, 3797416; 382575, 3797407; 382697, 3797390; 382819, 3797292; 382875, 3797235; 382962, 3797209; 383014, 3797136; 383011, 3797099; 383033, 3797068; 383079, 3797083; 383113, 3797073; 383146, 3797048; 383190, 3796973; 383194, 3796947; 383179, 3796925; 383132, 3796924; 383151, 3796897; 383155, 3796867; 383132, 3796748; 383138, 3796707; 383209, 3796628; 383199, 3796569; 383174, 3796556; 383167, 3796529; 383141, 3796518; 383103, 3796524; 383000, 3796475; 382997, 3796450; 383034, 3796361; 383087, 3796289; 383034, 3796298; 383017, 3796285; thence returning to 382996, 3796285. Continue to 384028, 3796247; 384053, 3796202; 384051, 3796176; 384059, 3796152; 384135, 3796001; 384194, 3795949; 384215, 3795916; 384228, 3795890; 384237, 3795827; 384251, 3795804; 384279, 3795790; 384301, 3795761; 384369, 3795715; 384391, 3795692; 384459, 3795652; 384471, 3795614; 384461, 3795548; 384473, 3795517; 384447, 3795462; 384454, 3795405; 384443, 3795388; 384469, 3795361; 384472, 3795305; 384448, 3795308; 384410, 3795277; 384359, 3795186; 384340, 3795182; 384392, 3795278; 384394, 3795298; 384418, 3795311; 384430, 3795341; 384409, 3795448; 384430, 3795467; 384430, 3795516; 384442, 3795542; 384443, 3795581; 384428, 3795628; 384412, 3795652; 384292, 3795724; 384216, 3795793; 384187, 3795926; 384171, 3795946; 384150, 3795950; 384131, 3795966; 384082, 3796037; 384023, 3796194; 383996, 3796242; thence returning to 384028, 3796247. Continue to 386146, 3795243; 386141, 3795218; 386119, 3795182; 386085, 3795059; 386058, 3795006; 386064, 3794847; 386033, 3794669; 385965, 3794586; 385935, 3794565; 385911, 3794564; 385829, 3794527; 385793, 3794521; 385648, 3794422; 385617, 3794387; 385597, 3794392; 385646, 3794454; 385681, 3794463; 385773, 3794538; 385932, 3794625; 386022, 3794719; 386025, 3794798; 386004, 3794872; 386041, 3795101; 386079, 3795179; 386091, 3795247; thence returning to 386146, 3795243.

(ii) Map of Unit 3 (Big Tujunga Wash) follows:

* * * * *

[FR Doc. 2017-10673 Filed 5-23-17; 8:45 am]

BILLING CODE 1301-00-D